DEPARTMENT OF THE TREASURY

Internal Revenue Service

Approved Motor Fuel Distribution Terminals

AGENCY: Internal Revenue Service, (IRS), Treasury

ACTION: Notice of Issuance of Terminal Control Numbers for Approved Motor Fuel Terminals

SUMMARY: Internal Revenue Service (IRS) developed and is publishing in this issue of the Federal Register, Terminal Control Numbers (TCN) to clearly communicate to the motor fuel industry and other interested parties such as state excise taxing authorities, the motor fuel terminal facilities that meet the definitions of Internal Revenue Code Section 4081 and the regulations thereunder. The IRS intends to use the terminal numbers to coordinate dyed fuel compliance activities and excise fuel information reporting systems. IRS encourages states to adopt and use the numbers for motor fuel information reporting where appropriate. This list is published under the authority of Internal Revenue Code Section 6103(k)(7).

What Is a Terminal Control Number (TCN)?

A terminal control number is a number that identifies an approved terminal in the bulk transfer/terminal system. A taxable fuel registrant (Letter of Registration for Tax Free Transactions with a suffix code -S-) will be issued a TCN for each physical location. Only one TCN will be assigned per terminal location per terminal operator.

What Is An Approved Terminal?

Approved motor fuel terminals, as defined by Internal Revenue Code Section 4081 and the regulations thereunder, receive taxable fuel via a pipeline, ship, or barge, deliver taxable fuel across a rack or other non-bulk delivery system and are operated by a terminal operator who is properly registered in good standing with the IRS. Only those taxpayers, who are registered with the IRS on registration for Tax-Free Transactions Form 637 (637 Registration) with a suffix code of “S” may operate an approved terminal. Each TCN identifies a unique physical location in the bulk transport/delivery system and is therefore independent of the registered operator.

When Does a Terminal Operator Need to Notify IRS of Changes?

A terminal operator must notify the IRS for any of the following changes:

—Terminal ownership or operator changes; or

—a new terminal is opened; or

—a terminal ceases operation.

How Should Notification be Made?

Notify the IRS District Office where the Form 637 is issued of the change and by FAX the IRS TCN Coordinator at:

Internal Revenue Service OP:E:Ex Unit 35

Attn: TCN Coordinator (859) 292-7128 FAX.

Changes to the terminal status or other information will be published by the Excise Program Office in the IRS Headquarters Office. Notification is required in order to retain approved status of the terminal and 637 Registration. Failure to notify of changes may lead to suspension or revocation of the approved status of the terminal or 637 Registration of the terminal operator. Changes or suspensions of approved status will be published as needed.

If you have any questions regarding the approved terminals or the listing, you may contact: Terminal Control Number Coordinator—Barbara Ruggles at (859) 292-2758 or Mary Burwell at (202) 622-4379 (not toll-free numbers).

Dated: July 24, 2000.
W. Ricky Stiff,
Acting National Director, Specialty Taxes.

Terminal Number | Terminal Name | Terminal Address | City | State | Zip Code
T-92-AK-4500 | Chevron Anchorage | 459 W Bluff Rd | Anchorage | AK | 99501
T-92-AK-4501 | MAPCO Alaska Anchorage | 1076 Ocean Dock Road | Anchorage | AK | 99501
T-92-AK-4502 | Equilon Enterprises LLC | 1601 Tidewater | Anchorage | AK | 99501
T-92-AK-4503 | MAPCO Alaska North Pole | 1150 H & H Lane | North Pole | AK | 99705
T-92-AK-4504 | Tesoro-Anchorage | 1522 Anchorage Port Rd | Anchorage | AK | 99501
T-92-AK-4505 | Tesoro Alaska Petroleum Co | Mile 22.5 Kenai Spur Road | Kenai | AK | 99611
T-63-AL-2300 | Amoco Oil Birmingham | 1600 Mims Ave. Southwest | Birmingham | AL | 35211
T-63-AL-2301 | Chevron Birmingham | 2400 28th St Southwest | Birmingham | AL | 35211
T-63-AL-2302 | CITGO Birmingham | 2200 25th St Southwest | Birmingham | AL | 35211
T-63-AL-2303 | Crown Central Birmingham | 2500 Nabors Road | Birmingham | AL | 35211
T-63-AL-2304 | Southeast Terminal Montgomery | Hwy 31 North | Montgomery | AL | 36108
T-63-AL-2305 | B P Oil Co Birmingham | 1600 Mims Ave SW | Birmingham | AL | 35211
T-63-AL-2306 | MAPLLC Birmingham | 2704 28th St Southwest | Birmingham | AL | 35211
T-63-AL-2307 | Phillips 66 Birmingham | 2635 Balsam Avenue | Birmingham | AL | 35211
T-63-AL-2308 | Motiva Enterprises LLC | 2601 Wilson Road | Birmingham | AL | 35221
T-63-AL-2309 | Southern Facilities Birmingham | 2400 Nabors Road | Birmingham | AL | 35211
T-63-AL-2310 | Motiva Enterprises LLC | 2529 28th Street SW | Birmingham | AL | 35211
T-63-AL-2312 | TransMontaigne Terminaling, Inc. | 1600 Mims Ave SW | Birmingham | AL | 35211
T-63-AL-2314 | Amoco Oil Mobile | Hwy. 90 and 98 | Mobile | AL | 36601
T-63-AL-2315 | Coastal Fuels Mobile | Highway 98, Blakely Island | Mobile | AL | 36652
T-63-AL-2316 | Coastal Mobile Chickasaw | 200 Viaduct Rd | Chickasaw | AL | 36611
T-63-AL-2322 | Amoco Oil Montgomery | 3560 Well Rd | Montgomery | AL | 36108
T-63-AL-2323 | Chevron USA Montgomery | 200 Hunter Loop Road | Montgomery | AL | 31608
T-63-AL-2324 | B P Oil Mongtomery | Access Highway 31 North | Montgomery | AL | 36108
T-63-AL-2325 | MAPLLC Montgomery | 320 Hunter Loop Rural Rt 6 | Montgomery | AL | 36125
T-63-AL-2326 | S T Services Montgomery | 520 Hunter Loop Road | Montgomery | AL | 36108
T-63-AL-2327 | Southern Facilities Montgomery | 420 Hunter Loop Road | Montgomery | AL | 36108
T-63-AL-2329 | Hunt Refining Co | 1855 Fairlawn RD | Tuscaloosa | AL | 35401
T-63-AL-2330 | S T Services Moundville | 872 Second Ave. | Moundville | AL | 35474
T-63-AL-2333 | Murphy Oil USA—Oxford | 2625 Highway 78 East | Anniston | AL | 36201
T-63-AL-2334 | Shell Chemical Co.—Saraland | 400 Industrial Parkway | Saraland | AL | 36571
T-63-AL-2335 | Murphy Sheffield | 136 Blackwell Road | Sheffield | AL | 35660
T-63-AL-2336 | BP OIL MOBILE | 101 Bay Bridge Rd | Mobile | AL | 36610
T-72-AL-2338 | EOTT Energy Corp—Mobile | Magazine Point | Mobile | AL | 36610
T-72-AL-2339 | Midstream Fuel Service-Mobile | Hwy 90/98 Blakeley Island | Mobile | AL | 36618
T-72-AL-2340 | Radcliff Economy Marine-Mobile | 5 South Water St Extension | Mobile | AL | 36652
T-72-AL-2341 | SouthEast Terminals | Highway 31 North | Montgomery | AL | 36108
T-72-AL-2343 | Allied Energy Corporation | 2700 Ishkooda Wenonah Rd. | Birmingham | AL | 35211
T-72-AL-2344 | Goodway Refining, LLC | 315 Belleville Av. | Brewton | AL | 36427
T-71-AR-2451 | Lion Oil El Dorado | 1000 McHenry | El Dorado | AR | 71730
T-71-AR-2453 | Williams Pipe Line Fort Smith | 8101 Hwy 71 | Fort Smith | AR | 72903
T-71-AR-2454 | TEPPCO Helena | 826 Old Highway | Helena | AR | 72342
T-71-AR-2456 | Transmontaigne N. Little Rock | 2725 Central Airport Rd | North Little Rock | AR | 72117
T-71-AR-2457 | Exxon USA North Little Rock | 2724 Central Airport Rd | North Little Rock | AR | 72117
T-71-AR-2458 | La Gloria Oil N Little Rock | 2626 Central Airport Road | North Little Rock | AR | 72117
T-71-AR-2459 | Transmontaigne Little Rock | 3222 Central Airport Rd | North Little Rock | AR | 72117
T-71-AR-2460 | Cross Oil Refining& Mktg. Inc. | 484 E. 6th Street | Smackover | AR | 71762
T-71-AR-2463 | Truman Arnold West Memphis | South of 8th Street | West Memphis | AR | 72303
T-71-AR-2464 | Arkansas Terminaling & Trading | 2207 Central Airport Rd. | North Little Rock | AR | 72117
T-71-AR-2467 | Razorback Terminaling | 2801 West Hwy 102 Rt 2 | Rogers | AR | 72756
T-86-AZ-4300 | Caljet Phoenix | 125 N 53rd Ave | Phoenix | AZ | 85043
T-86-AZ-4301 | Chevron USA Phoenix | 5110 West Madison | Phoenix | AZ | 85043
T-86-AZ-4303 | Pro Petroleum Phoenix | 408 S 43rd Avenue | Phoenix | AZ | 85043
T-86-AZ-4304 | SFPP LP Phoenix | 49 North 53rd Ave Van Buren | Phoenix | AZ | 85043
T-86-AZ-4305 | Mobil Oil Phoenix | 24 South 51st Ave | Phoenix | AZ | 85043
T-86-AZ-4306 | Equilon Enterprises LLC | 5525 West Van Buren | Phoenix | AZ | 85043
T-86-AZ-4307 | Tosco Corporation | 10 South 51st Avenue | Phoenix | AZ | 85043
T-86-AZ-4308 | Chevron Products—Tucson | 3865 East Refinery Way | Tucson | AZ | 85713
T-86-AZ-4309 | S T Services Tucson | 3605 South Dodge | Tucson | AZ | 85713
T-86-AZ-4310 | SFPP LP Tucson | 3841 East Refinery Way | Tucson | AZ | 85713
T-86-AZ-4312 | Equilon Enterprises LLC | 3735 South Dodge Boulevard | Tucson | AZ | 85713
T-86-AZ-4313 | ARCO Phoenix | 5333 W Van Buren St | Phoenix | AZ | 85043
T-33-CA-4750 | Mobil Oil Atwood | 1477 Jefferson | Anaheim | CA | 92807
T-33-CA-4751 | GATX Tank Storage | 2000 East Sepulveda Blvd. | Carson | CA | 90810
T-33-CA-4752 | Tosco Corporation Wilmington | 1660 W Anaheim St | Wilmington | CA | 90744
T-33-CA-4753 | ARCO Colton | 2395 S Riverside Avenue | Bloomington | CA | 92316
T-33-CA-4754 | Kinder-Morgan Energy Partners #4 | 2305 S Riverside Avenue | Bloomington | CA | 92316
T-33-CA-4756 | Kinder-Morgan Energy Partners #2 | 2297 South Riverside Avenue | Bloomington | CA | 92316
T-33-CA-4757 | Kinder-Morgan Energy Partners #1 | 2359 S. Riverside Avenue | Bloomington | CA | 92316
T-33-CA-4758 | Equilon Enterprises LLC | 2307 S. Riverside Ave. | Colton | CA | 92316
T-33-CA-4759 | Equilon Enterprises LLC | 2237 S. Riverside Avenue | Bloomington | CA | 92316
T-33-CA-4760 | Tosco Refining Colton | 271 E Slover Avenue | Rialto | CA | 92376
T-33-CA-4761 | Calnev Pipe Line Daggett | 34277 Daggett-Yermo Road | Robert Brown | CA | 92327
T-33-CA-4763 | Kinder-Morgan Energy Partners | 345 W Aten Road | Imperial | CA | 92251
T-33-CA-4764 | ARCO Long Beach | 5905 Paramount Blvd. | Long Beach | CA | 90805
T-33-CA-4765 | Edington Oil Co. | 2400 E. Artesia Bl. | Long Beach | CA | 90805
T-33-CA-4766 | Tosco Corporation Bloomington | 2301 S. Riverside | Bloomington | CA | 92316
T-33-CA-4767 | Petro-Diamond Terminal Company | 1920 Lugger Way | Long Beach | CA | 90813
T-33-CA-4768 | Equilon Enterprises LLC | 1926 E. Pacific Coast Hwy | Wilmington | CA | 90744
T-33-CA-4769 | ARCO Carson | 2149 E. Sepulreda Blvd. | Carson | CA | 90749
T-33-CA-4770 | Equilon Enterprises LLC | 2101 E. Pacific Coast Hwy | Wilmington | CA | 90744
T-33-CA-4771 | Chevron USA Huntington Beach | 17881 Gothard St. | Huntington Beach | CA | 92647
T-33-CA-4772 | Kinder-Morgan Energy Partners LLP | 1350 North Main Street | Orange | CA | 92667
T-33-CA-4773 | Chevron USA San Diego | 2351 E. Harbor Drive | San Diego | CA | 92113
T-33-CA-4776 | SFPP, LP | 9950 San Diego Mission Road | San Diego | CA | 92108
T-33-CA-4777 | Equilon Enterprises LLC | 9950 San Diego Mission Blvd. | San Diego | CA | 92108
T-33-CA-4778 | Equilon Enterprises LLC | 9966 San Diego Mission Rd. | San Diego | CA | 92108
T-33-CA-4779 | Chemoil Long Beach | 2365 E. Sepulveda Blvd. | Long Beach | CA | 90810
T-33-CA-4780 | Westway Terminal—San Pedro | Port of LA Berths 70-71 | San Pedro | CA | 90733
T-33-CA-4782 | ARCO San Diego | 2295 E. Harbor Drive | San Diego | CA | 92113
T-33-CA-4783 | Mobil Oil San Diego | 9950 San Diego Mission Rd | San Diego | CA | 92108
T-33-CA-4784 | ARCO Signal Hill | 2350 Hathaway Drive | Signal Hill | CA | 90806
T-33-CA-4785 | Equilon Enterprises LLC | 2457 Redondo Ave. | Signal Hill | CA | 90806
T-33-CA-4786 | Mobil Oil Torrance | 3700 West 190th Street | Torrance | CA | 90509
T-33-CA-4789 | Ultramar Inc. Wilmington | 2402 E Anaheim St | Wilmington | CA | 90744
T-68-CA-4600 | Kinder-Morgan Energy Partners | 2570 Hegan Lane | Chico | CA | 95927
T-68-CA-4601 | Kinder-Morgan Energy Partners | 2590 Hegan Lane | Chico | CA | 95928
T-68-CA-4603 | Valero Refining Company | 3410 East Second Street | Benicia | CA | 94510
T-68-CA-4604 | Chevron USA Banta | 22888 S. Kasson Rd. | Tracy | CA | 95376
T-68-CA-4605 | Shore Terminals LLC | 90 San Pablo Ave | Crockett | CA | 94525
T-68-CA-4606 | Chevron USA Eureka | 3400 Christie Street | Eureka | CA | 95501
T-68-CA-4607 | Chevron USA Avon | 611 Solano Way | Martinez | CA | 94553
T-68-CA-4609 | ARCO Stockton Terminal | 2700 West Washington St | Stockton | CA | 95203
T-68-CA-4610 | Equilon Enterprises LLC | 1801 Marina Vista | Martinez | CA | 94553
T-68-CA-4611 | Tosco Refining Martinez | Solano Way & Waterfront Rd. | Martinez | CA | 94553
T-68-CA-4612 | ARCO Sacramento | 1701 S. River Rd | West Sacramento | CA | 95691
T-68-CA-4613 | Kinder-Morgan Energy Partners | 2901 Bradshaw Rd | Rancho Cordova | CA | 95741
T-68-CA-4614 | ARCO Richmond | 1306 Canal Blvd | Richmond | CA | 94807
T-68-CA-4616 | Chevron Richmond | 155 Castro St | Richmond | CA | 94802
T-68-CA-4617 | Tosco Corporation Richmond | 1300 Canal Blvd | Richmond | CA | 94804
T-68-CA-4619 | IMTT Richmond-CA | 100 Cutting Blvd. | Richmond | CA | 94804
T-68-CA-4621 | Chevron USA Sacramento | 2420 Front Street | Sacramento | CA | 95818
T-68-CA-4622 | Equilon Enterprises LLC | 1509 South River Road | West Sacramento | CA | 95691
T-68-CA-4626 | S T Services Stockton | 2941 Navy Drive | Stockton | CA | 95206
T-68-CA-4628 | Equilon Enterprises LLC | 3515 Navy Dirve | Stockton | CA | 95203
T-68-CA-4629 | Tesoro Refining Mktg Stockton | 3003 Navy Drive | Stockton | CA | 95205
T-77-CA-4650 | Chevron Products Co. | 1020 Berryessa Road | San Jose | CA | 95133
T-77-CA-4651 | Kinder Morgan Energy Partners LP | 4149 South Maple Avenue | Fresno | CA | 93725
T-77-CA-4652 | Kinder Morgan Energy Partners LP | 2150 Kruse Avenue | San Jose | CA | 95131
T-77-CA-4653 | Equilon Enterprises LLC | 2165 O'Toole Ave. | San Jose | CA | 95131
T-77-CA-4654 | Equilon Enterprises LLC | 3284 North Ventura Ave. | Ventura | CA | 93001
T-77-CA-4655 | Kern Oil & Refining Co. | 7724 East Panama Lane | Bakersfield | CA | 93307
T-77-CA-4657 | Equilon Enterprises LLC | 2436 Fruitvale Avenue | Bakersfield | CA | 93302
T-77-CA-4658 | Tesoro Marine Services, Inc. | 141 West Hueneme Road | Pt. Hueneme | CA | 93041
T-77-CA-4659 | Occidental of Elk Hills, Inc. | 28590 Hwy. 119 | Tupman | CA | 93276
T-77-CA-4661 | Golden Bear Oil Specialties | 1134 Manor | Oildale | CA | 93308
T-77-CA-4664 | San Joaquin Refining Co., Inc. | 3542 Shell St. | Bakersfield | CA | 93308
T-94-CA-4700 | Kinder-Morgan Energy Partners, LP | 950 Tunnel Av. | Brisbane | CA | 94005
T-94-CA-4703 | Equilon Enterprises LLC | 135 North Access Road | So. San Francisco | CA | 94080
T-94-CA-4705 | Shore Terminals LLC | 488 Wright Ave. | Richmond | CA | 94802
T-95-CA-4800 | Chevron USA El Segundo | 324 West El Segundo Blvd | El Segundo | CA | 90245
T-95-CA-4803 | Tosco S. Broadway Los Angeles | 13500 South Broadway | Los Angeles | CA | 90061
T-95-CA-4804 | Equilon Enterprises LLC | 8100 Haskell Ave. | Van Nuys | CA | 91406
T-95-CA-4805 | Mobil Oil—Vernon | 2709 East 37th Street | Vernon | CA | 90058
T-95-CA-4807 | ARCO South Gate | 8601 S. Garfield Ave. | South Gate | CA | 90280
T-95-CA-4808 | Paramount Petroleum | 8835 Sommerset Blvd. | Paramount | CA | 90746
T-95-CA-4809 | Equilon Enterprises LLC | 2015 Long Beach Ave. | Los Angeles | CA | 90058
T-95-CA-4810 | Chevron USA Van Nuys | 15359 Oxnard Street | Van Nuys | CA | 91411
T-95-CA-4811 | Chevron USA Montebella | 601 South Vail Avenue | Montebella | CA | 90640
T-84-CO-4100 | Chase Pipeline Aurora | 15000 E. Smith Rd. | Aurora | CO | 80011
T-84-CO-4101 | Colorado Refining Denver | 5800 Brighton Boulevard | Commerce City | CO | 80022
T-84-CO-4102 | Conoco Denver | 5575 Brighton Boulevard | Commerce City | CO | 80022
T-84-CO-4103 | Diamond Shamrock Denver | 3601 East 56th Street | Commerce City | CO | 80022
T-84-CO-4104 | Phillips 66 Commerce City | 3960 East 56th Avenue | Commerce City | CO | 80022
T-84-CO-4105 | Kaneb PipeLine Dupont | 8160 Krameria | DuPont | CO | 80024
T-84-CO-4106 | Kaneb PipeLine Fountain | 1004 S. Sante Fe | Fountain | CO | 80817
T-84-CO-4107 | Landmark Petroleum Fruita | 1493 Hwy 6 & 50 | Fruita | CO | 81521
T-84-CO-4108 | Diamond Colorado Springs | 7810 Drennan | Colorado Springs | CO | 80925
T-84-CO-4109 | Sinclair Pipeline Henderson | 8581 East 96th Ave | Henderson | CO | 80640
T-84-CO-4110 | Phillips Pipeline Co.—LaJunta Terminal | 31610 East Hwy 50 | LaJunta | CO | 81050
T-06-CT-1250 | Hoffman Fuel Co. of Bridgeport | 156 East Washington Ave | Bridgeport | CT | 06604
T-06-CT-1251 | Sprague Energy Stamford | 10 Water St | Stamford | CT | 06902
T-06-CT-1252 | CITGO Rocky Hill | 109 Dividend Road | Rocky Hill | CT | 06067
T-06-CT-1253 | Motiva Enterprises LLC | 211 Riverside Drive | East Hartford | CT | 06108
T-06-CT-1254 | Motiva Enterprises LLC | 481 East Shore Parkway | New Haven | CT | 06512
T-06-CT-1255 | Amerada Hess—Groton | 443 Eastern Point Road | Groton | CT | 06340
T-06-CT-1256 | Motiva Enterprises LLC | 250 Eagles Nest Rd. | Bridgeport | CT | 06607
T-06-CT-1257 | Amerada Hess—New Haven | 100 River Street | New Haven | CT | 06513
T-06-CT-1258 | New Haven Terminal Inc | 100 Waterfront St | New Haven | CT | 06512
T-06-CT-1259 | Amerada Hess—Wethersfield | 50 Burbank Road | Wethersfield | CT | 06109
T-06-CT-1261 | Getty Terminal New Haven | 85 Forbes Avenue | New Haven | CT | 06512
T-06-CT-1262 | Gulf Oil LP—New Haven | 500 Waterfront Street | New Haven | CT | 06512
T-06-CT-1263 | Wyatt Energy, Inc. | 134 Forbes Avenue | New Haven | CT | 06512
T-06-CT-1264 | Gateway Terminal New Haven | 400 Waterfront St | New Haven | CT | 06512
T-06-CT-1265 | Wyatt Energy, Inc. | 85 East Street | New Haven | CT | 06536
T-06-CT-1266 | Hi- Ho Petroleum | 85 Harbor Street | Bridgeport | CT | 06605
T-06-CT-1267 | Consumer Petroleum Wholesaler | One Eagles Nest Rd | Bridgeport | CT | 06605
T-06-CT-1269 | 38 Duffy Ave., LLC | 56 Brownstone Ave. | Portland | CT | 06480
T-06-CT-1270 | Northeast Petroleum—Wethersfield | 80 Burbank Road | Wethersfield | CT | 06109
T-06-CT-1271 | Signature Flight Support | 100 Signature Way | East Granby | CT | 06026
T-06-CT-1272 | Devine Bros. Inc.—Norwalk | 38 Commerce St | Norwalk | CT | 06850
T-06-CT-1274 | Wyatt Energy Incorporated | 280 Waterfront St | New Haven | CT | 06512
T-06-CT-1277 | Sprague Energy | 247 Riverside Dr. | East Hartford | CT | 06902
T-06-CT-1279 | Inland Fuel Terminal | 154 Admiral St. | Bridgeport | CT | 06605
T-06-CT-1280 | B & B Petroleum Inc. | 32 Brownstone Ave | Portland | CT | 06480
T-06-CT-1281 | Hall & Muska, Inc. | 152 Broad Brook Rd | Broad Brook | CT | 06016
T-06-CT-1282 | Anthony Troisno & Sons, Inc. | 777 Enfield St. | Enfield | CT | 06082
T-06-CT-1284 | Port Oil | 248 Brownstone Ave. | Portland | CT | 06480
T-06-CT-1285 | Heating Oil Partners LP | 410 Bank St. | New London | CT | 06320
T-06-CT-1286 | NORAA Enterprises, Inc. | 1351 Main Street | East Hartford | CT | 06109
T-52-MD-1564 | S T Services Washington (M St) | 1333 M St SE | Washington | DC | 20003
T-54-VA-1686 | Ogden Aviation Fueling Co., Inc. | 11 Air Cargo Rd. | Washington | DC | 20001
T-51-DE-1600 | Motiva Enterprises LLC | River Rd and J Street | Delaware City | DE | 19706
T-51-DE-1601 | Blades Terminal-Peninsula Oil | Blades Causeway | Blades | DE | 19973
T-51-DE-1603 | Wilco Inc, Peninsula Oil Co | Blades Causeway | Seaford | DE | 19973
T-52-MD-1572 | The Sico Company | 1050 Christiana Ave. | Wilmington | DE | 19801
T-59-FL-2100 | Murphy Oil USA Tampa | 1306 Ingram Ave | Tampa | FL | 33605
T-59-FL-2101 | TransMontaigne Terminaling, Inc. | 1523 Port Avenue | Tampa | FL | 33605
T-59-FL-2102 | Amerada Hess—Jacksonville | 2617 Heckscher Drive | Jacksonville | FL | 32226
T-59-FL-2103 | Williams Energy Services, Inc. | 2054 Heckscher Drive | Jacksonville | FL | 32226
T-59-FL-2104 | Chevron Products Company | 3117 Talleyrand Avenue | Jacksonville | FL | 32206
T-59-FL-2105 | Coastal Fuels Jacksonville | 3425 Talleyrand Avenue | Jacksonville | FL | 32206
T-59-FL-2106 | B P-Amoco Oil Jacksonville | 12101 Heckscher Dr | Jacksonville | FL | 32218
T-59-FL-2107 | Amerada Hess—Tampa | 504 N 19th Street | Tampa | FL | 33605
T-59-FL-2109 | Petroleum Fuel Jacksonville | 1961 E Adams St | Jacksonville | FL | 32202
T-59-FL-2112 | S T Services Jacksonville | 6531 Evergreen Avenue | Jacksonville | FL | 32208
T-59-FL-2114 | CITGO—Niceville | 904 Bayshore Drive | Niceville | FL | 32578
T-59-FL-2115 | Murphy Oil Freeport | 424 Madison St | Freeport | FL | 32439
T-59-FL-2116 | Chevron USA Product Co | 525 West Beach Drive | Panama City | FL | 32402
T-59-FL-2117 | CITGO Panama City | 122 S Center Ave | Panama City | FL | 32401
T-59-FL-2118 | Coastal Fuels Pensacola | 640 S Barracks St | Pensacola | FL | 32501
T-59-FL-2119 | Radcliff/Economy-Pensacola | 3100 Barrancas Avenue | Pensacola | FL | 32507
T-59-FL-2120 | TransMontaigne Terminaling, Inc. | 511 South Clubb St | Pensacola | FL | 32501
T-59-FL-2122 | Coastal Fuels Port Manatee | 804 N Dock St | Palmetto | FL | 34220
T-59-FL-2123 | GATX Terminals Port Tampa | 2101 GATX Drive | Tampa | FL | 33605
T-59-FL-2124 | Motiva Enterprises LLC | 6500 Commerce St | Port Tampa | FL | 33616
T-59-FL-2125 | Murphy Oil St Marks | 585 Port Leon Drive | St Marks | FL | 32355
T-59-FL-2127 | TOC Terminals St Marks | 815 Port Leon Drive | St. Marks | FL | 32355
T-59-FL-2129 | GATX Terminal Taft (CFPL) | 9919 Orange Avenue | Orlando | FL | 32824
T-59-FL-2130 | Amoco Oil Tampa | 848 McCloskey Boulevard | Tampa | FL | 33605
T-59-FL-2131 | Chevron USA Tampa | 5500 Commerce Street | Tampa | FL | 33616
T-59-FL-2133 | CITGO Tampa | 801 McCloskey Blvd | Tampa | FL | 33605
T-59-FL-2136 | MAPLLC Oil Tampa | 425 South 20th Street | Tampa | FL | 33605
T-59-FL-2138 | Coastal Fuels Cape Canaveral | 10 Tanker Turn Rd. | Cape Canaveral | FL | 32920
T-65-FL-2150 | Coastal Fuels Port Everglades | 2401 Eisenhower Blvd | Fort Lauderdale | FL | 33316
T-65-FL-2151 | S T Services Homestead | 13195 S W 288th Street | Homestead | FL | 33033
T-65-FL-2152 | Amoco Oil Port Everglades | 1180 Spangler Road | Port Everglades | FL | 33316
T-65-FL-2153 | Chevron USA Port Everglades | 1400 SE 24th St | Fort Lauderdale | FL | 33335
T-65-FL-2154 | Motiva Enterprises LLC | 1500 SE 26 St | Ft. Lauderdale | FL | 33316
T-65-FL-2155 | Texaco Refining & Marketing, Inc. | 4350 NW 20 St., Bldg. 3100 | Miami | FL | 33359
T-65-FL-2156 | Amerada Hess—Port Everglades | 1501 SE 20th St. | Fort Lauderdale | FL | 33316
T-65-FL-2157 | CITGO Port Everglades | 800 SE 28th Street | Fort Lauderdale | FL | 33316
T-65-FL-2160 | MAPLLC Oil Port Everglades | 1601 SE 20th St | Fort Lauderdale | FL | 33316
T-65-FL-2161 | Mobil Oil Port Everglades | 1150 Spangler Blvd | Fort Lauderdale | FL | 33316
T-65-FL-2163 | Motiva Enterprises LLC | 909 S.E. 24 St. | Fort Lauderdale | FL | 33316
T-65-FL-2164 | Motiva Enterprises LLC | 1200 SE 28th St | Port Everglades | FL | 33316
T-65-FL-2165 | TransMontaigne Terminaling, Inc. | 2701 SE 14th Ave | Fort Lauderdale | FL | 33316
T-75-TX-2677 | Martin Gas Sales, Inc. | 4118 Pendola Point Rd. | Tampa | FL | 33617
T-58-GA-2500 | Phillips Pipeline Albany | 1603 W Oakridge Dr | Albany | GA | 31707
T-58-GA-2501 | Williams Energy Ventures-Alban | 1722 W Oakridge Dr | Albany | GA | 31707
T-58-GA-2502 | TransMontaigne Terminaling, Inc. | 1162 Gillionville Rd | Albany | GA | 31707
T-58-GA-2504 | S T Services Augusta | 209 Sand Bar Ferry Road | Augusta | GA | 30901
T-58-GA-2505 | TransMontaigne Terminaling, Inc. | Plains Road Highway 280 West | Americus | GA | 31709
T-58-GA-2506 | Charter—TRIAD Terminals LLC | 3460 Jefferson Road | Athens | GA | 30607
T-58-GA-2507 | S T Services, West Terminal | 2 Walstrom Rd. | Savannah | GA | 31404
T-58-GA-2508 | TransMontaigne Terminaling, Inc. | 3450 Jefferson Road | Athens | GA | 30607
T-58-GA-2510 | Motiva Enterprises LLC | 4127 Winter Chapel Rd. | Doraville | GA | 30360
T-58-GA-2511 | TransMontaigne Terminaling, Inc. | 3132 Parrott Avenue Northwest | Atlanta | GA | 30318
T-58-GA-2514 | Motiva Enterprises LLC | 803 East Shotwell St. | Bainbridge | GA | 31717
T-58-GA-2515 | TransMontaigne Terminaling, Inc. | 1909 East Shotwell Street | Bainbridge | GA | 31717
T-58-GA-2516 | Stratus Petroleum Blakely | Hwy 62 W & Chattahoochee Rd | Blakely | GA | 31723
T-58-GA-2517 | S T Services Bremen | 870 Alabama Avenue | Bremen | GA | 30110
T-58-GA-2518 | S T Services Brunswick | 211 Newcastle Street NW | Brunswick | GA | 31520
T-58-GA-2519 | Fina Oil & Chemical Atlanta | 2970 Parrott Avenue | Atlanta | GA | 30318
T-58-GA-2520 | Chevron USA Columbus | 5131 Miller Road | Columbus | GA | 31908
T-58-GA-2521 | Crown Central Columbus | 4840 Miller Rd | Columbus | GA | 31904
T-58-GA-2522 | ITAPCO Inc Columbus | 5225 Miller Road | Columbus | GA | 31904
T-58-GA-2523 | MAPLLC Oil Columbus | 5030 Miller Road | Columbus | GA | 31909
T-58-GA-2524 | S T Services Columbus | 800 Lumpkin Boulevard | Columbus | GA | 31901
T-58-GA-2525 | TransMontaigne Terminaling, Inc. | 2836 Woodwin Road | Doraville | GA | 30362
T-58-GA-2526 | Amoco Doraville Peachtree | 6430 New Peachtree Road | Doraville | GA | 30340
T-58-GA-2527 | Motiva Enterprises LLC | 4201 Winters Chappel Rd. | Doraville | GA | 30340
T-58-GA-2528 | Chevron USA Doraville | 4026 Winters Chapel Road | Doraville | GA | 30362
T-58-GA-2529 | CITGO Doraville | 3877 Flowers Drive | Doraville | GA | 30362
T-58-GA-2531 | Motiva Enterprises LLC | 4143 Winters Chapel Rd | Doraville | GA | 30360
T-58-GA-2532 | MAPLLC Oil Doraville | 6293 New Peachtree Road | Doraville | GA | 30341
T-58-GA-2533 | William Energy Ventures, Inc. | 4149 Winters Chapel Road | Doraville | GA | 30360
T-58-GA-2534 | Amoco Doraville Chapel | 4064 Winters Chapel Rd | Doraville | GA | 30340
T-58-GA-2535 | Southern Facilities Doraville | 2797 Woodwin Road | Doraville | GA | 30360
T-58-GA-2537 | TransMontaigne Terminaling, Inc. | 643B East McIntosh Road | Griffin | GA | 30223
T-58-GA-2538 | Chevron USA Macon | 2476 Allen Road | Macon | GA | 31206
T-58-GA-2541 | MAPLLC Oil Macon | 2445 Allen Road | Macon | GA | 31206
T-58-GA-2542 | S T Services Macon | 6225 Hawkinsville Road | Macon | GA | 31216
T-58-GA-2543 | Southern Facilities Macon | 2505 Allen Road | Macon | GA | 31206
T-58-GA-2544 | TransMontaigne Terminaling, Inc. | 5041 Forsyth Rd. | Macon | GA | 31210
T-58-GA-2545 | MAPLLC Oil Powder Springs | 3895 Anderson Farm Road NW | Powder Springs | GA | 30073
T-58-GA-2547 | TransMontaigne Terminaling, Inc. | 2671 Calhoun Road | Rome | GA | 30161
T-58-GA-2550 | Colonial Terminal, Inc. | 101 North Lathrop Ave | Savannah | GA | 31415
T-58-GA-2551 | Paktank Corp Savannah Term | Georgia Ports Garden City | Savannah | GA | 31418
T-99-HI-4550 | Tesoro Hawaii Corp. Refinery | 91-325 Komohana St. | Kapolei | HI | 96707
T-99-HI-4551 | Aloha Petroleum Ltd. | 91-119 Hanua Street | Kapolei | HI | 96706
T-99-HI-4552 | Chevron USA Hilo | 666 Kalanianaole Avenue | Hilo | HI | 96720
T-99-HI-4553 | Chevron USA Honolulu | 933 North Nimitz Highway | Honolulu | HI | 96817
T-99-HI-4554 | Chevron USA Kahului | 100 A Hobron Avenue | Kahului | HI | 96732
T-99-HI-4555 | Chevron USA Port Allen | A & B Road, Port Allen | Eleele | HI | 96705
T-99-HI-4556 | Tosco Refining Co. | 411 Pacific St | Honolulu | HI | 96814
T-99-HI-4557 | Equilon Enterprises LLC | 789 N. Nimitz Hwy. | Honolulu | HI | 96817
T-99-HI-4558 | Equilon Enterprises LLC | 661 Kalanianaole Ave. | Hilo | HI | 96720
T-99-HI-4559 | Tesoro Hawaii Corporation | 607 Kalanianaole Ave. | Hilo | HI | 96720
T-99-HI-4560 | Aloha Petroleum Ltd. | 999 Kalanianaole Ave. | Hilo | HI | 96720
T-99-HI-4561 | Tesoro Hawaii Corporation | 701 Kalanianaole Street | Hilo | HI | 96720
T-99-HI-4562 | Shell Oil Nawiliwili | 3145 Waapa Rd. | Lihue | HI | 96766
T-99-HI-4563 | Tesoro Hawaii Corporation | 140 H Hobron Ave | Kahului | HI | 96732
T-99-HI-4566 | Equilon Enterprises LLC | 60 Hobron Ave. | Kahului | HI | 96732
T-99-HI-4567 | Tosco Kawaihae | No. 1 Kawaihae Road | Kamuela | HI | 96743
T-99-HI-4568 | Tesoro Hawaii Corporation | 2 Sand Island Access Rd. | Honolulu | HI | 96819
T-99-HI-4569 | Tesoro Hawaii Corporation | Pier 34 | Honolulu | HI | 96817
T-39-IA-3475 | Sinclair Terminal | 2506 260th St. | Montrose | IA | 52639
T-42-IA-3450 | Amoco Oil Bettendorf | 75 South 31st Street | Bettendorf | IA | 52722
T-42-IA-3451 | Koch Petroleum Group-Bettendorf | 4100 Elm St | Bettendorf | IA | 52722
T-42-IA-3452 | Phillips Pipeline Company | 2925 Depot Street | Bettendorf | IA | 52722
T-42-IA-3453 | Williams Pipe Line Sioux South | 3701 South Lewis Blvd | Sioux City | IA | 51106
T-42-IA-3454 | Amoco Oil Council Bluffs | 829 East South Bridge Rd | Council Bluffs | IA | 51501
T-42-IA-3455 | National Coop. Council Bluffs | 825 East South Omaha Bridge Rd | Council Bluffs | IA | 51502
T-42-IA-3456 | Amoco Oil Des Moines | 1501 Northwest 86th Street | Des Moines | IA | 50325
T-42-IA-3457 | Williams Pipe Line Des Moines | 2503 Southeast 43rd Street | Des Moines | IA | 50317
T-42-IA-3458 | Amoco Oil Dubuque | 15437 Olde Highway Rd. | Dubuque | IA | 52001
T-42-IA-3460 | Williams Pipe Line Dubuque | 8038 St Joe's Prairie Rd | Dubuque | IA | 52003
T-42-IA-3461 | Williams Pipe Line Fort Dodge | 6 miles from Ft Dodge | Duncombe | IA | 50532
T-42-IA-3463 | Williams Pipe Line Iowa City | 912 First Avenue | Coralville | IA | 52241
T-42-IA-3464 | Kaneb Pipe Line Le Mars | US Hwy 75/7 Miles N of LeMars | Le Mars | IA | 51031
T-42-IA-3465 | Williams Pipe Line Mason City | 2810 East Main | Clear Lake | IA | 50428
T-42-IA-3466 | Kaneb Pipe Line Milford | 1 mile W of Milford & Hwy 71 | Milford | IA | 51351
T-42-IA-3467 | Williams Pipe Line Milford | RT #1 | Milford | IA | 51351
T-42-IA-3468 | Amoco Oil North Liberty | 2092 Hwy. 965 NE | North Liberty | IA | 52317
T-42-IA-3469 | Amoco Oil Ottumwa | Three miles west on US 34 | Ottumwa | IA | 52501
T-42-IA-3470 | Conoco Pipeline Co. | 4500 Vandalia | Pleasant Hill | IA | 50317
T-42-IA-3471 | CITGO—Bettendorf | 312 South Bellingham Street | Bettendorf | IA | 52722
T-42-IA-3472 | Kaneb Pipeline Rock Rapids | State Hwy 9 | Rock Rapids | IA | 51246
T-42-IA-3473 | Williams Pipe Line Sioux City | 4300 41st Street | Sioux City | IA | 51108
T-42-IA-3474 | Williams Pipe Line Waterloo | 5360 Eldora Rd | Waterloo | IA | 50701
T-82-ID-4150 | Boise Idaho Terminal | 321 North Curtis Road | Boise | ID | 83707
T-82-ID-4151 | Northwest Terminaling Boise | 201 N. Phillips Rd. | Boise | ID | 83704
T-82-ID-4152 | United Products Terminal | 70 North Philipi Road | Boise | ID | 83706
T-82-ID-4155 | Amoco Oil Burley | 421 East Highway 81 | Burley | ID | 83318
T-82-ID-4157 | Burley Products Terminal | 425 East Hwy 81 PO Box 233 | Burley | ID | 83318
T-82-ID-4159 | Chevron Pipeline Pocatello | 1189 Tank Farm Rd. | Pocatello | ID | 83201
T-36-IL-3300 | Clark Refining and Marketing Inc. | 131st & Homan Avenue | Blue Island | IL | 60406
T-36-IL-3301 | Amoco Oil Des Plaines | 2201 South Elmhurst Rd | Des Plaines | IL | 60018
T-36-IL-3302 | Amoco Oil Forest View | 4811 South Harlem Avenue | Forest View | IL | 60402
T-36-IL-3303 | Amoco Oil Company—Rochelle | 100 East Standard Oil Road | Rochelle | IL | 61068
T-36-IL-3304 | CITGO Mt Prospect | 2316 Terminal Drive | Arlington Heights | IL | 60005
T-36-IL-3305 | GATX Terminals Argo | 8500 West 68th Street | Argo | IL | 60501
T-36-IL-3306 | Equilon Enterprises LLC | 1511 South Meridian Rd | Rockford | IL | 61102
T-36-IL-3307 | Marathon Mt Prospect | 3231 Busse Road | Arlington Heights | IL | 60005
T-36-IL-3308 | MAPLLC Oil Rockford | 7312 Cunningham Road | Rockford | IL | 61102
T-36-IL-3309 | MAPLLC Willow Springs | 7600 LaGrange Road | Willow Springs | IL | 60480
T-36-IL-3310 | S T Services—Blue Island | 3210 West 131st Street | Blue Island | IL | 60406
T-36-IL-3311 | Mobil Oil Des Plaines | 2312 Terminal Drive | Des Plaines | IL | 60005
T-36-IL-3312 | Petroleum Fuel Forest View | 4801 South Harlem | Forest View | IL | 60402
T-36-IL-3313 | Phillips Pipeline Company—Kankakee | 275 North 2760 West Road | Kankakee | IL | 60901
T-36-IL-3314 | S T Services—Peru | 2830 West Market Street | Peru | IL | 61354
T-36-IL-3315 | Equilon Enterprises LLC | 8600 West 71st. Street | Bedford Park | IL | 60501
T-36-IL-3316 | Equilon Enterprises LLC | 1605 E. Algonquin Road | Des Plaines | IL | 60005
T-36-IL-3317 | CITGO Petroleum Corp.—Lemont | 135th & New Avenue | Lemont | IL | 60439
T-36-IL-3318 | CITGO—Des Plaines | 2304 Terminal Drive | Des Plaines | IL | 60056
T-36-IL-3319 | Williams Pipe Line—Amboy | 1222 U S Route 30 | Amboy | IL | 61310
T-36-IL-3320 | Williams Pipeline Franklin | 10601 Franklin Avenue | Franklin Park | IL | 60131
T-36-IL-3322 | Equilon Enterprises LLC—Des Plaines | 1000 Terminal Drive | Arlington Heights | IL | 60005
T-36-IL-3323 | TransMontaign Terminaling, Inc. | 14410 North Old Galena Rd. | Chillicothe | IL | 61523
T-36-IL-3324 | Kinder Morgan Morris Complex | 4755 E. Route 6 | Morris | IL | 60450
T-36-IL-3373 | Clark Refining & Marketing Co.—Blue Is | Kedzie Ave. & 131st | Blue Island | IL | 60406
T-36-IL-3375 | Mobil Oil Corporation—Lockport | 1290 High Road | Lockport | IL | 60441
T-37-IL-3351 | Amoco Oil Wood River | 335 South Old St Louis Rd | Wood River | IL | 62095
T-37-IL-3352 | Equilon Enterprises LLC | 7022 South Cilco Lane | Bartonville | IL | 61607
T-37-IL-3353 | Conoco Wood River | Route 3 | Hartford | IL | 62048
T-37-IL-3354 | Hartford Wood River | 900 North Delmar | Hartford | IL | 62048
T-37-IL-3355 | Hicks OIls & Hicks Gas Inc | 1118 Wesley Road | Creve Coeur | IL | 61610
T-37-IL-3356 | Equilon Enterprises LLC | South Side Hawthorne | Hartford | IL | 62048
T-37-IL-3358 | MAPLLC Champaign | 511 S. Staley Road | Champaign | IL | 61821
T-37-IL-3360 | MAPLLC Robinson | Rural Route One | Robinson | IL | 62454
T-37-IL-3361 | La Gloria Oil Norris City | Rural Route 2 | Norris City | IL | 62869
T-37-IL-3362 | Petroleum Fuel Granite City | 2801 Rock Road | Granite City | IL | 62040
T-37-IL-3364 | Meioco Terminal | Rt 49 South | Ashkum | IL | 60911
T-37-IL-3365 | Phillips 66 Decatur | 266 E Shafer | Forsyth | IL | 62535
T-37-IL-3366 | Phillips Petroleum E St Louis | 3300 Mississippi Ave | Cahokia | IL | 62206
T-37-IL-3367 | S T Services—Chillicothe | 20206 North State Rd, Rt 29 | Chillicothe | IL | 61523
T-37-IL-3368 | Equilon Enterprises LLC | Route 45 N. R.R. 3 | Effingham | IL | 62401
T-37-IL-3369 | Equilon Enterprises LLC | 600 E. Lincoln Memorial Pky | Harristown | IL | 62537
T-37-IL-3371 | Williams Pipe Line Heyworth | Rural Route Two | Heyworth | IL | 61745
T-37-IL-3372 | Williams Pipe Line Menard Cty | Rural Route Three | Petersburg | IL | 62675
T-43-IL-3729 | Center Terminal Co—Hartford | 1402 S Delmare | Hartford | IL | 62048
T-35-IN-3201 | Amoco Oil Brookston | 11555 South IN 43 | Brookston | IN | 47923
T-35-IN-3202 | Equilon Enterprises LLC | 1020 141st St | Hammond | IN | 46320
T-35-IN-3203 | Amoco Oil Granger | 12694 Adams Rd | Granger | IN | 46530
T-35-IN-3204 | Amoco Oil Indianpolis | 2500 N Tibbs Avenue | Indianapolis | IN | 46222
T-35-IN-3205 | Amoco Oil Whiting | 2530 Indianapolis Blvd. | Whiting | IN | 46394
T-35-IN-3206 | MAPLLC Clarksvile | 214 Center Street | Clarksville | IN | 47124
T-35-IN-3207 | MAPLLC Evansville | 2500 Broadway | Evansville | IN | 47712
T-35-IN-3208 | MAPLLC Huntington | 4648 N. Meridian Road | Huntington | IN | 46750
T-35-IN-3209 | CITGO East Chicago | 2500 East Chicago Ave | East Chicago | IN | 46312
T-35-IN-3210 | CITGO Huntington | 4393 N Meridian Rd US 24 | Huntington | IN | 46750
T-35-IN-3211 | Gladieux T & M Huntington | 4757 US 24 E | Huntington | IN | 46750
T-35-IN-3212 | Kentuckiana Terminal | 20 Jackson St | New Albany | IN | 47150
T-35-IN-3213 | Transmontaigne Terminaling Inc | 2630 Broadway | Evansville | IN | 47712
T-35-IN-3214 | CountryMark—Mount Vernon | 1200 Refinery Road | Mount Vernon | IN | 47620
T-35-IN-3215 | Crown Central Petro—Clermont | 9323 West 30th | Clermont | IN | 46234
T-35-IN-3216 | Crown Central Petro—Seymour | 9780 N US Hwy 31 | Seymour | IN | 47274
T-35-IN-3217 | Equilon Enterprises LLC | 10470 E County Rd, 300 North | Clermont | IN | 46234
T-35-IN-3218 | MAPLLC Hammond | 4206 Columbia Avenue | Hammond | IN | 46327
T-35-IN-3219 | MAPLLC Indianapolis | 4955 Robison Rd | Indianapolis | IN | 46268
T-35-IN-3220 | MAPLLC Mount Vernon | Old State Rd #69 South | Mount Vernon | IN | 47620
T-35-IN-3221 | MAPLLC Muncie | 2100 East State Road 28 | Muncie | IN | 47303
T-35-IN-3222 | MAPLLC Speedway | 1304 Olin Ave | Indianapolis | IN | 46222
T-35-IN-3224 | Mobil Oil Hammond | 1527 141th Street | Hammond | IN | 46327
T-35-IN-3225 | Phillips 66 East Chicago | 400 East Columbus Dr | East Chicago | IN | 46312
T-35-IN-3226 | Phillips 66 Clermont | 3230 N Raceway Road | Indiapolis | IN | 46234
T-35-IN-3227 | S T Services Clermont | 3350 N Raceway Rd | Indianapolis | IN | 46234
T-35-IN-3228 | Equilon Enterprises LLC | 2400 Michigan St. | Hammond | IN | 46320
T-35-IN-3229 | Equilon Enterprises LLC | 2000 E. State Rd. 28 | Muncie | IN | 47302
T-35-IN-3230 | Equilon Enterprises LLC | 5405 W. 9th St. | Zionsville | IN | 46268
T-35-IN-3231 | Sun Huntington | 4691 N Meridian St | Huntington | IN | 46750
T-35-IN-3232 | TEPPCO Princeton | Highway 64 West | Oakland City | IN | 47660
T-35-IN-3233 | Center Terminal Co-Indianapoli | 10833 East County Rd 300 North | Indianapolis | IN | 46234
T-35-IN-3234 | Lassus Bros Huntington | 4413 North Meridian Rd | Huntington | IN | 46750
T-35-IN-3235 | CountryMark Jolietville | 17710 Mule Barn | Westfield | IN | 46074
T-35-IN-3236 | CountryMark—Peru | Highway 24 West | Peru | IN | 46970
T-35-IN-3237 | CountryMark Switz City | State Road 54 East | Switz City | IN | 47465
T-35-IN-3238 | Transmontaigne Terminaling Inc. | 10700 E County Rd 300N | Indianapolis (CL) | IN | 46234
T-35-IN-3242 | Safety-Kleen Oil Recovery Co. | 601 Riley Road | East Chicago | IN | 46312
T-35-IN-3243 | Conrail Inc.-Avon Diesel Term | 491 S. County Road 800 E. | Plainfield | IN | 46168
T-35-IN-3244 | Indiana Harbor Belt Railroad | 2721—161st St. | Hammond | IN | 46323
T-35-IN-3245 | Conrail Inc.- Elkhart Terminal | 2600 W. Lusher Rd | Elkhart | IN | 46516
T-35-IN-3246 | Transmontaigne—South Bend | 20630 W. Ireland Rd. | South Bend | IN | 46614
T-43-KS-3672 | Phillips Pipeline Co.—Kansas City | 2029 Fairfax Trafficway | Kansas City | KS | 66115
T-48-KS-3651 | Farmland Ind. Coffeyville | North & Linden Streets | Coffeyville | KS | 67337
T-48-KS-3652 | Kaneb Pipe Line Concordia | Route 1 | Delphos | KS | 67436
T-48-KS-3654 | Frontier El Dorado Refining Company | South Haverhill Road | El Dorado | KS | 67042
T-48-KS-3655 | Chase Pipeline Great Bend | Hwys 56 & 156 4 mi east of GB | Great Bend | KS | 67530
T-48-KS-3656 | Kaneb Pipe Line Hutchison | 3300 East Avenue G | Hutchison | KS | 67501
T-48-KS-3658 | Sinclair Pipeline Kansas City | 3401 Fairbanks Avenue | Kansas City | KS | 66106
T-48-KS-3659 | Williams Pipeline Kansas City | 401 East Donovan Road | Kansas City | KS | 66115
T-48-KS-3660 | National Coop. McPherson | 2000 South Main Street | McPherson | KS | 67460
T-48-KS-3661 | Williams Pipe Line Olathe | 13745 W 135th St | Olathe | KS | 66062
T-48-KS-3662 | Farmland Coop. Phillipsburg | Hwy 183 N | Phillipsburg | KS | 67661
T-48-KS-3663 | S T Services Salina | 2137 W Old Hwy 40 | Salina | KS | 67401
T-48-KS-3664 | Chase Pipeline Scott City | Junction Highways 83 & 4 | Scott City | KS | 67871
T-48-KS-3665 | Williams Pipe Line Topeka | US Hwy 75 RFD 1 | Wakarusa | KS | 66546
T-48-KS-3666 | Center Terminal Co.—Wichita | 7452 N Meridian | Valley Center | KS | 67147
T-48-KS-3667 | Williams Pipe Line Wathena | Rt. 2 Box 112 | Wathena | KS | 66090
T-48-KS-3669 | Williams Pipe Line-Wichita | 1100 East 21st Street | Wichita | KS | 67214
T-48-KS-3670 | Conoco Wichita | 8001 Oak Knoll Road | Wichita | KS | 67207
T-48-KS-3671 | Phillips Pipeline Wichita | 2400 East 37th Street North | Wichita | KS | 67219
T-61-KY-3261 | B P Oil Bromley | 409 River Road | Bromley | KY | 41016
T-61-KY-3262 | MAPLLC Catlettsburg | Old St Rt 23 | Catlettsburg | KY | 41129
T-61-KY-3263 | MAPLLC Covington | 230 East 33rd Street | Covington | KY | 41015
T-61-KY-3264 | Transmontaigne—Greater Cincinnati | 700 River Road | Covington | KY | 41017
T-61-KY-3265 | Henderson Terminaling | 2321 Old Geneva Road | Henderson | KY | 42420
T-61-KY-3266 | MAPLLC Lexington | 1770 Old Frankfort Pike | Lexington | KY | 40504
T-61-KY-3267 | Chevron USA Lexington | 1750 Old Frankfort Pike | Lexington | KY | 40504
T-61-KY-3268 | MAPLLC Louisville | 4510 Algonquin Parkway | Louisville | KY | 40211
T-61-KY-3269 | B P Oil Louisville | 1500 SW Parkway & Gibson Lane | Louisville | KY | 40211
T-61-KY-3270 | Chevron USA Louisville | 4401 Bells Lane | Louisville | KY | 40211
T-61-KY-3271 | TransMontaigne—Louisville | 4510 Bells Lane | Louisville | KY | 40211
T-61-KY-3272 | MAPLLC Oil Louisville | 3920 Kramers Lane | Louisville | KY | 40216
T-61-KY-3273 | Sun Louisville | 7800 Cane Run Road | Louisville | KY | 40258
T-61-KY-3274 | CITGO—Louisville | 4724 Camp Ground Road | Louisville | KY | 40216
T-61-KY-3276 | MAPLLC Paducah | Highway 62 & MAPLLC Rd. | Paducah | KY | 42003
T-61-KY-3278 | TransMontaigne Terminal—Paducah | 233 Elizabeth St | Paducah | KY | 42001
T-61-KY-3279 | Transmontaigne-Henderson. | 2633 Sunset Lane | Henderson | KY | 42420
T-61-KY-3280 | Southern States Coorperative | 150 Coast Guard Lane | Owensboro | KY | 42302
T-61-KY-3281 | Somerset Refinery—Somerset | 600 Monticello Street | Somerset | KY | 42502
T-61-KY-3283 | Transmontaigne—Owensboro | 900 Pleasant Valley Road | Owensboro | KY | 42302
T-61-KY-3284 | Transmontaigne—Riverway | 1350 South 3rd Street | Paducah | KY | 42003
T-62-KY-2244 | Transmontainge—Paducah | 2000 So. 4th St. | Paducah | KY | 42003
T-62-KY-3285 | Catlettsburg Refining LLC | 8023 Crider Dr. | Catlettsburg | KY | 41129
T-72-LA-2350 | B P Oil Alliance |  | Alliance | LA |
T-72-LA-2351 | Chevron USA Arcadia | Highway 80 East | Arcadia | LA | 71001
T-72-LA-2353 | Exxon Co USA Arcadia | Highway 80 East | Arcadia | LA | 71001
T-72-LA-2355 | International Tank Terminals, Inc. | 5450 River Rd. | Avondale | LA | 70094
T-72-LA-2357 | Chevron USA Baton Rouge | 1315 Mengel Road | East Baton Rouge | LA | 70807
T-72-LA-2358 | Exxon USA Baton Rouge | 3329 Scenic Highway | Baton Rouge | LA | 70805
T-72-LA-2359 | Petroleum Fuel Baton Rouge | 995 Earnest Wilson Road | Port Allen | LA | 70767
T-72-LA-2360 | Mobil Oil Chalmette | 1700 Paris Rd Gate 50 | Chalmette | LA | 70043
T-72-LA-2361 | Motiva Enterprises LLC | Louisiana Street | Covent | LA | 70723
T-72-LA-2363 | MAPLLC Oil Garyville | Highway 61 | Garyville | LA | 70051
T-72-LA-2364 | IMTT—Gretna | 1145 Fourth Street | Gretna | LA | 70058
T-72-LA-2365 | Motiva Enterprises LLC | 143 Firehouse Dr. | Kenner | LA | 70062
T-72-LA-2366 | Valero Refining Co.—Louisiana | Highway 105 South | Krotz Springs | LA | 70750
T-72-LA-2367 | Calcasieu Lake Charles | West End of Tank Farm Road | Lake Charles | LA | 70606
T-72-LA-2368 | CITGO Lake Charles | Cities Serv Hwy & LA Hwy 108 | Lake Charles | LA | 70601
T-72-LA-2371 | Murphy Oil USA Meraux | 2501 East St Bernard Hwy | Meraux | LA | 70075
T-72-LA-2372 | Mobil Oil Morgan City | 1000 Young's Road | Morgan City | LA | 70380
T-72-LA-2373 | Motiva Enterprises, LLC | Marrero, Barataria & River Rd. | Marrero | LA | 70072
T-72-LA-2374 | GATX Terminals Norco | 1601 River Road | Norco | LA | 70079
T-72-LA-2375 | Chevron USA Opelousas | Highway 182 South | Opelousas | LA | 70571
T-72-LA-2376 | Placid Refining Co Port Allen | 1940 Louisiana Hwy One North | Port Allen | LA | 70767
T-72-LA-2377 | International Tank Terminals, Inc. | 11842 River Rd. | Saint Rose | LA | 70087
T-72-LA-2378 | Pennzoil Product Co Shreveport | 3333 Midway PO Box 3099 | Shreveport | LA | 71133
T-72-LA-2381 | Conoco Westlake | 1980 Old Spanish Trail | Westlake | LA | 70669
T-72-LA-2382 | Paktank Corp Westwego | 106 Bridge City Avenue | Bridge City | LA | 70094
T-72-LA-2383 | Phibro Marine Fuels | 7168 Shrimpers Row | Dulac | LA | 70353
T-72-LA-2384 | Phibro Marine Fuel Gretna | 1125 Fourth St | Gretna | LA | 70058
T-72-LA-2386 | Goldline Refinery | 11499 Plant Road | Jennings | LA | 70546
T-72-LA-2388 | Calvmet Lubricants-Cotton Vall | U. S. Hwy 371 South | Cotton Valley | LA | 71018
T-72-LA-2389 | Calvmet Lubricants-Princeton | 10234 Hwy 157 | Princeton | LA | 71067
T-72-LA-2390 | ST Services Westwego | 660 La Bauve Drive | Westwego | LA | 70094
T-72-LA-2391 | Petro-United Term Sunshine | 1725 Highway 75 | Sunshine | LA | 70780
T-72-LA-2392 | Petron, Inc. | R.T. 2, Box 238A | Jonesville | LA | 71343
T-72-LA-2393 | Sunshine Oil and Storage, Inc. | 486 Highway 165 | Monroe | LA | 71202
T-04-MA-1151 | L E Belcher Springfield | 615 St James Ave | Springfield | MA | 01109
T-04-MA-1152 | Chelsea Terminal L/P | 11 Broadway | Chelsea | MA | 02150
T-04-MA-1153 | Gulf Oil Ltd Partnership Chelsea | 123 Eastern Ave. | Chelsea | MA | 02150
T-04-MA-1154 | Mobil Oil East Boston | 467 Chelsea Street | East Boston | MA | 02128
T-04-MA-1155 | CITGO East Braintree | 385 Quincy Ave | Braintree | MA | 02184
T-04-MA-1156 | Exxon USA Everett | 52 Beacham Street | Everett | MA | 02149
T-04-MA-1160 | Irving Oil Terminals, Inc. | 41 Lee Burbank Highway | Revere | MA | 02151
T-04-MA-1161 | Global Petroleum Corp. | 222 Lee Burbank Hwy | Revere | MA | 02151
T-04-MA-1162 | Global Petroleum Revere | 140 Lee Burbank Hwy | Revere | MA | 02151
T-04-MA-1163 | Cargill, Inc. | 25 Derby Street | Salem | MA | 01970
T-04-MA-1164 | Cargill, Inc. | 3 Coast Guard Road | Sandwich | MA | 02563
T-04-MA-1165 | Coastal Oil NE South Boston | 900 E First Street | South Boston | MA | 02128
T-04-MA-1166 | Global Petroleum | 160 Rocus St. | Springfield | MA | 01101
T-04-MA-1168 | Mobil Oil Springfield | 145 Albany Street | Springfield | MA | 01105
T-04-MA-1172 | Global Petroleum Corp | 30 Pine St. | Bedford | MA | 02740
T-04-MA-1173 | Harbor Fuel Oil Corp | 15 Sparks Ave | Nantucket | MA | 02554
T-04-MA-1175 | R M Packer Co. Inc | Beach Rd. | Vineyard Haven | MA | 02568
T-04-MA-1176 | Sprague Energy Corp | 728 Southern Artery | Quincy | MA | 02169
T-04-MA-1177 | Springfield Terminals Inc | 86 Robbins Road | Springfield | MA | 01101
T-04-MA-1179 | Wyatt Energy Inc | 1053 Page Blvd | Springfield | MA | 01104
T-04-MA-1180 | Sprague Energy—Quincy | 740 Washington St. | Quincy | MA | 02170
T-04-MA-1181 | Ultlramar Energy, Inc. | 60 Hannon St. | Springfield | MA | 01101
T-52-MD-1550 | Amerada Hess—Baltimore | 6200 Pennington Avenue | Baltimore | MD | 21226
T-52-MD-1551 | Amoco Oil Baltimore | 801 East Ordance Rd | Curtis Bay | MD | 21226
T-52-MD-1552 | Tosco/Bayway—Baltimore | 2155 Northbridge Ave | Baltimore | MD | 21226
T-52-MD-1554 | Petroleum Fuel & Terminal N | 5101 Erdman Avenue | Baltimore | MD | 21205
T-52-MD-1558 | Shell Oil Co. West | 3445 Fairfield Road | Baltimore | MD | 21226
T-52-MD-1559 | Petroleum Fuel and Terminal S | 1622 South Clinton Street | Baltimore | MD | 21224
T-52-MD-1560 | S T Services Baltimore | 1800 Frankfurst Avenue | Baltimore | MD | 21226
T-52-MD-1561 | Motiva Enterprises LLC | 2400 Petrolia Ave. | Baltimore | MD | 21226
T-52-MD-1562 | Motiva Enterprises LLC | 2201 Southport Ave. | Baltimore | MD | 21226
T-52-MD-1563 | Stratus Petroleum Baltimore | 3100 Vera Street | Baltimore | MD | 21226
T-52-MD-1565 | S T Services—Piney Point | 17877 Piney Point Road | Piney Point | MD | 20674
T-52-MD-1567 | Cato Oil Salisbury | 1030 Marine Road | Salisbury | MD | 21801
T-52-MD-1568 | Support Terminals Operating LP | 1134 Marine Road | Salisbury | MD | 21801
T-52-MD-1570 | S T Services Andrews AFB | c/o 89th Supply Squadron/LGSS | Andrews AFB | MD | 20331
T-52-MD-1571 | Delmarva Oil Co. | Fitzwater St. Extended | Salisbury | MD | 21803
T-01-ME-1000 | Mobil Oil Bangor | 730 Lower Main Street | Bangor | ME | 04401
T-01-ME-1001 | Sprague Energy—South Portland | 5 Central Avenue | South Portland | ME | 04106
T-01-ME-1002 | Coldbrook Energy, Inc. | 809 Main Road No | Hampden | ME | 04444
T-01-ME-1003 | Sprague Energy So. Portland | 59 Main Street | South Portland | ME | 04106
T-01-ME-1004 | Mobil Oil Portland | 170 Lincoln Street | South Portland | ME | 04106
T-01-ME-1006 | Irving Oil Searsport | Station Ave | Searsport | ME | 04974
T-01-ME-1008 | Gulf Oil South Portland | 175 Front St | South Portland | ME | 04106
T-01-ME-1009 | Cargill Inc. | One Clarks Road | South Portland | ME | 04106
T-01-ME-1010 | Motiva Enterprises LLC | 102 Mechanic Street | South Portland | ME | 04106
T-01-ME-1011 | Webber Oil Bangor | 700 Main St | Bangor | ME | 04401
T-01-ME-1012 | Webber Tanks Buckport | Drawer CC River Road | Bucksport | ME | 04416
T-01-ME-1013 | Webber Tanks Brewer | 225 South Main | Brewer | ME | 04412
T-38-MI-3001 | Amoco Oil Cheyboygan | 311 Coast Guard Drive | Cheyboygan | MI | 49721
T-38-MI-3004 | Amoco Oil Napoleon | 6777 Brooklyn Road | Napoleon | MI | 49261
T-38-MI-3005 | Amoco Oil River Rouge | 205 Marion Street | River Rouge | MI | 48218
T-38-MI-3006 | Amoco Oil Taylor | 8625 South Inkster Rd. | Taylor | MI | 48180
T-38-MI-3007 | B P Oil Taylor | 24801 Ecorse Rd | Taylor | MI | 48180
T-38-MI-3008 | CITGO Ferrysburg | 524 Third Street | Ferrysburg | MI | 49409
T-38-MI-3009 | CITGO Jackson | 2001 Morrill Rd | Jackson | MI | 49201
T-38-MI-3010 | CITGO Niles | 2233 South Third | Niles | MI | 49120
T-38-MI-3011 | MAPLLC Niles | 2140 South Third St. | Niles | MI | 49120
T-38-MI-3012 | Cousins Petroleum Taylor | 7965 Holland | Taylor | MI | 48180
T-38-MI-3013 | Equilon Enterprises LLC | 17806 North Shore Dr. | Ferrysburg | MI | 49409
T-38-MI-3015 | MAPLLC Detroit | 12700 Toronto St. | Detroit | MI | 48217
T-38-MI-3016 | MAPLLC Flint | 6065 North Dort Highway | Mt. Morris | MI | 48458
T-38-MI-3017 | MAPLLC Jackson | 2090 Morrill Rd | Jackson | MI | 49201
T-38-MI-3019 | MAPLLC Oil Niles | 2216 South Third Street | Niles | MI | 49120
T-38-MI-3020 | MAPLLC N. Muskegon | 3005 Holton Rd | North Muskegon | MI | 49445
T-38-MI-3022 | Mobil Oil Flint | G5340 North Dort Highway | Flint | MI | 48505
T-38-MI-3023 | Mobil Oil Niles | 2150 South Third Street | Niles | MI | 49120
T-38-MI-3024 | Mobil Oil Woodhaven | 20755 West Road | Woodhaven | MI | 48183
T-38-MI-3025 | Equilon Enterprises LLC | 700 Deacon | Detroit | MI | 48217
T-38-MI-3027 | Equilon Enterprises LLC | 2103 Morrill Rd. | Jackson | MI | 49201
T-38-MI-3028 | Equilon Enterprises LLC | 325.5 Fulkerson Rd. | Niles | MI | 49120
T-38-MI-3029 | Sun Company Inc—Owosso | 4004 West Main Rd | Owosso | MI | 48867
T-38-MI-3030 | Sun River Rouge | 500 South Dix Avenue | Detroit | MI | 48217
T-38-MI-3031 | MAPLLC—Alma | 1925 East Superior St | Alma | MI | 48802
T-38-MI-3032 | MAPLLC-Bay City | 1806 Marquette | Bay City | MI | 48706
T-38-MI-3033 | MAPLLC- Lansing | 6300 West Grand River | Lansing | MI | 48906
T-38-MI-3034 | MAPLLC-Romulus | 28001 Citrin Drive | Romulus | MI | 48174
T-38-MI-3035 | MAPLLC-Traverse City | 13544 W Bayshore Dr | Traverse City | MI | 49684
T-38-MI-3036 | MAPLLC-Bay City | 5011 Wilder Road | Bay City | MI | 48706
T-38-MI-3037 | Leemon Oil Co., Inc. | 29120 Wick Road | Romulus | MI | 48174
T-38-MI-3039 | Delta Fuels Of Michigan | 40600 Grand River | Novi | MI | 48374
T-38-MI-3041 | Quality Oil Company | 630 Ottawa Avenue | Holland | MI | 49423
T-38-MI-3042 | MAPLLC Detroit | 22970 Ecorse Road | Taylor | MI | 48180
T-38-MI-3043 | Equilon Enterprises LLC | 12451 Old US 27 | Marshall | MI | 49068
T-38-MI-3044 | Clark Refining and Marketing | 8000 S Beech Daly Rd | Taylor | MI | 48180
T-41-MN-3400 | Amoco Oil Moorhead | 1101 Southeast Main | Moorhead | MN | 56560
T-41-MN-3401 | Amoco Oil Sauk Centre | 1 Mile W on County Rd 72 | Sauk Centre | MN | 56378
T-41-MN-3402 | Amoco Oil Spring Valley | 2 Miles East of U S 16 | Spring Valley | MN | 55975
T-41-MN-3403 | Amoco Oil Twin Cities | 2288 West County Road C | Roseville | MN | 55113
T-41-MN-3404 | MAPLLC Refinery St. Paul | 100 West Third Street | St. Paul Park | MN | 55071
T-41-MN-3405 | Conoco Wrenshall | 10 Broadway Street | Wrenshall | MN | 55797
T-41-MN-3406 | Erickson Petroleum Newport | 50 21st St | Newport | MN | 55055
T-41-MN-3407 | Koch Petroleum Group-Pine Bend | Junction Highways 52 & 55 | St. Paul | MN | 55164
T-41-MN-3410 | Murphy Oil-Esko | 5746 Old Hwy 61 | Esko | MN | 55733
T-41-MN-3412 | Williams Pipe Line Alexandria | 709 3rd Ave W | Alexandria | MN | 56308
T-41-MN-3413 | Williams Pipe Line Mankato | Rural Route Nine | Mankato | MN | 56001
T-41-MN-3414 | Williams Pipe Line Marshall | Route Four | Marshall | MN | 56258
T-41-MN-3415 | Williams Pipe Line Roseville | 2451 W County Rd C | Roseville | MN | 55113
T-41-MN-3416 | Williams Pipe Line Rochester | 1331 Hwy 42 SE | Eyota | MN | 55934
T-41-MN-3418 | ST Services Winona | 1020 E. 2nd St. | Winona | MN | 55987
T-43-MO-3700 | Conoco Belle | Highway 28 South | Belle | MO | 65013
T-43-MO-3701 | JD Streett St Louis | 3800 S. 1st St. | St Louis | MO | 63118
T-43-MO-3702 | Texon LP | 19905 St. Hwy. 114 | Dexter | MO | 63841
T-43-MO-3703 | Ayers Oil Company—Canton | Fourth & Grant | Canton | MO | 63435
T-43-MO-3704 | Transmontaigne Terminaling Inc. | 1400 S Giboney | Cape Girardeau | MO | 63701
T-43-MO-3705 | TEPPCO Cape Girardeau | Rural Route 2, Hwy N | Scott City | MO | 63780
T-43-MO-3706 | Sinclair Pipeline Carrollton | S Main & 24 Business Route | Carrollton | MO | 64633
T-43-MO-3707 | Williams Pipeline Carthage | 18195 County Rd. 138 | Jasper | MO | 64755
T-43-MO-3708 | Williams Pipeline Columbia | 5531 South Hwy 63 | Columbia | MO | 65201
T-43-MO-3709 | Phillips 66 Jefferson City | 2116 Idlewood | Jefferson City | MO | 65109
T-43-MO-3710 | Conoco Kansas City | 6699 NW Riverpark Drive | Parkville | MO | 64152
T-43-MO-3712 | Sinclair Pipeline Mexico | Highway 54 East | Mexico | MO | 65265
T-43-MO-3713 | Conoco Mount Vernon | Rt. 2 Box 115 | Mount Vernon | MO | 65712
T-43-MO-3714 | Artco North | 3854 South 1st. St. | St. Louis | MO | 63118
T-43-MO-3715 | Sinclair Pipeline New Madrid | 211 Water Street | New Madrid | MO | 63869
T-43-MO-3716 | Williams Pipeline Palmyra | 6 mi North on Highway 61 | Palmyra | MO | 63461
T-43-MO-3718 | Williams Pipeline Springfield | 3132 S. State Hwy MM | Brookline | MO | 65619
T-43-MO-3719 | J D Street River Plant | 1 River Road | St Louis | MO | 63125
T-43-MO-3720 | Amoco Oil Sugar Creek | 1000 North Sterling | Sugar Creek | MO | 64054
T-43-MO-3721 | Williams Pipeline St Charles | 4695 South Service Road | St Peter | MO | 63376
T-43-MO-3722 | Ogden Aviation Services | 10735 Lambert International | St. Louis | MO | 63145
T-43-MO-3723 | Ogden Aviation Service | 217 Burn | Kansas City | MO | 64153
T-43-MO-3725 | Equilon Enterprises LLC | 239 E. Prairie St. | St. Louis | MO | 63147
T-43-MO-3726 | Equilon Enterprises LLC | 4070 South First Street | St Louis | MO | 63118
T-43-MO-3727 | Transmontaign Terminaling Inc. | 15376 Hwy 96 | Mount Vernon | MO | 65712
T-43-MO-3728 | Sinclair Oil Corp—Carrollton | RR4, Box 48 | Carrollton | MO | 64633
T-64-MS-2400 | Munro Petroleum Biloxi | 540 Bayview Avenue | Biloxi | MS | 39533
T-64-MS-2401 | Chevron USA Collins | Old Highway 49 South | Collins | MS | 39428
T-64-MS-2402 | Exxon USA Collins | 31 Kola Road | Collins | MS | 39428
T-64-MS-2403 | B P Oil Collins | First Avenue South | Collins | MS | 39428
T-64-MS-2404 | Motiva Enterprises LLC | 49 So. & Kola Rd. | Collins | MS | 39428
T-64-MS-2405 | TransMontaigne Terminaling, Inc. | First Avenue South | Collins | MS | 39428
T-64-MS-2406 | Greenville Republic Terminal | 310 Walthall Street | Greenville | MS | 38701
T-64-MS-2408 | Transmontainge Terminaling—Greenville | 208 Short Clay Street | Greenville | MS | 38701
T-64-MS-2409 | Southland Oil Lumberton | 5 Mi North of Lumberton Hwy 11 | Lumberton | MS | 39455
T-64-MS-2410 | Amoco Oil Meridan | 181 65th Avenue | Meridian | MS | 39307
T-64-MS-2411 | MEG, Inc. | 101 65th Avenue | Meridian | MS | 39301
T-64-MS-2412 | CITGO Meridian | 180 65th Avenue | Meridian | MS | 39305
T-64-MS-2413 | B P Oil Meridian | 1401 65th Ave S | Meridian | MS | 39307
T-64-MS-2414 | Motiva Enterprises LLC | 6540 N. Frontage Rd. | Meridian | MS | 39301
T-64-MS-2415 | TransMontaigne Terminaling, Inc. | 1401 65th Ave S | Meridian | MS | 39307
T-64-MS-2416 | Chevron USA Pascagola | Industrial Road State Hwy 611 | Pascagoula | MS | 39568
T-64-MS-2417 | TransMontaigne Terminaling, Inc. | US Hwy. 11 | Purvis | MS | 39475
T-64-MS-2418 | Southland Oil Sandersville | 2 mi N on Hwy 11 PO Drawer A | Sandersville | MS | 39477
T-64-MS-2419 | CITGO Vicksburg | 1585 Haining Rd | Vicksburg | MS | 39180
T-72-MS-2421 | Delta Terminal—Greenville | 2181 Harbor Front | Greenville | MS | 38701
T-72-MS-2422 | Meiko Terminal | 20096 Norm Connell Drive | Aberdeen | MS | 39730
T-81-MT-4000 | Conoco Billings | 23rd & Fourth Ave South | Billings | MT | 59107
T-81-MT-4001 | Conoco Bozeman | 316 West Griffin Drive | Bozeman | MT | 59715
T-81-MT-4002 | Conoco Great Falls | 1401 52nd N | Great Falls | MT | 59405
T-81-MT-4003 | Conoco Helena | 3180 Highway 12 East | Helena | MT | 59601
T-81-MT-4004 | Conoco Missoula | 3330 Raser Drive | Missoula | MT | 59802
T-81-MT-4005 | CENEX Laurel | P O Box 909 | Laurel | MT | 59044
T-81-MT-4006 | CENEX Glendive | P O Box 240 | Glendive | MT | 59330
T-81-MT-4007 | Exxon USA Billings | Lockwood Frontage Rd | Billings | MT | 59101
T-81-MT-4008 | Exxon USA Bozeman | 220 West Griffin Drive | Bozeman | MT | 59715
T-81-MT-4009 | Exxon USA Helena | 3120 Highway 12 Eaast | Helena | MT | 59601
T-81-MT-4010 | Exxon USA Missoula | 3350 Raser Drive | Missoula | MT | 59801
T-81-MT-4011 | Montana Refining Great Falls | 1900 10th Street | Great Falls | MT | 59403
T-56-NC-2000 | Exxon Corporation | 6801 Freedom Dr | Charlotte | NC | 28208
T-56-NC-2001 | CITGO Petroleum Corp. | 7600 Mount Holly Road | Charlotte | NC | 28214
T-56-NC-2002 | MAPLLC | 8035 Mt. Holly Rd. | Charlotte | NC | 28214
T-56-NC-2003 | Crown Central Petroleum-Charlotte | 7720 Mount Holly Rd. | Charlotte | NC | 28214
T-56-NC-2004 | Phillips Pipeline Co. | 502 Tom Sadler Rd. | Charlotte | NC | 28130
T-56-NC-2005 | Motiva Enterprises LLC | 6851 Freedom Dr. | Charlotte | NC | 28214
T-56-NC-2006 | Southern Facilities | 7145 Mount Holly Road | Charlotte | NC | 28214
T-56-NC-2007 | Motiva Enterprises LLC | 410 Tom Sadler Rd. | Charlotte | NC | 28130
T-56-NC-2008 | Southeast Terminal | 7401 Old Mount Holly Road | Charlotte | NC | 28214
T-56-NC-2009 | Motiva Enterprises LLC | 992 Shaw Mill Road | Fayetteville | NC | 28303
T-56-NC-2010 | TransMontaigne | 6907B West Market Street | Greensboro | NC | 27409
T-56-NC-2011 | Williams Group 2 | 7109 West Market Street | Greensboro | NC | 27409
T-56-NC-2012 | MAPLLC Greensboro | 6311 Burnt Poplar Road | Greensboro | NC | 27409
T-56-NC-2013 | Triad Terminal II | 2101 West Oak St. | Selma | NC | 27576
T-56-NC-2014 | Exxon USA Greensboro | 6907 West Market Street | Greensboro | NC | 27409
T-56-NC-2015 | Triad Terminal | 6376 Burnt Poplar Rd | Greensboro | NC | 27409
T-56-NC-2016 | Atlantic Aero, Inc. | 6423 Bryan Blvd. | Greensboro | NC | 27425
T-56-NC-2018 | Triad Terminal Selma | 2200 West Oak St. | Selma | NC | 27576
T-56-NC-2019 | Apex Oil | 6900 West Market St | Greensboro | NC | 27409
T-56-NC-2020 | Southern Facilities | 115 Chimney Rock Road | Greensboro | NC | 27409
T-56-NC-2021 | Motiva Enterprises LLC | 101 S. Chimney Rock Rd. | Greensboro | NC | 27419
T-56-NC-2022 | TransMontaigne | 6801 West Market Street | Greensboro | NC | 27409
T-56-NC-2023 | TransMontaigne | 7615 Old Mount Holly Road | Charlotte | NC | 28214
T-56-NC-2024 | Williams Energy | 7924 Mt. Holly Rd | Charlotte | NC | 28214
T-56-NC-2025 | Crown | 2999 W. Oak St. | Selma | NC | 27576
T-56-NC-2026 | Valero Marketing | 7325 Old Mount Holly Rd. | Charlotte | NC | 28214
T-56-NC-2027 | Motiva Enterprises LLC | 2232 Ten-Ten. Road | Apex | NC | 27502
T-56-NC-2028 | TransMontaigne | West State Road 1929 | Selma | NC | 27576
T-56-NC-2029 | B P Oil | Buffalo Road | Selma | NC | 27576
T-56-NC-2030 | CITGO | State Hwy 1003 and Oak St Ext | Selma | NC | 27576
T-56-NC-2031 | Exxon USA | 2555 West Oak Street | Selma | NC | 27576
T-56-NC-2032 | Airport Group Internaltional, Inc. | 6502 Old Dowd Rd. | Charlotte | NC | 28219
T-56-NC-2033 | Valero Marketing | 4383 Buffaloe Road | Selma | NC | 27576
T-56-NC-2034 | Phillips | 4086 Buffalo Road | Selma | NC | 27576
T-56-NC-2036 | Southern Facilities | 4414 Buffalow Road | Selma | NC | 27576
T-56-NC-2037 | Amerada Hess | 1312 S Front St. | Wilmington | NC | 28401
T-56-NC-2039 | CTI of North Carolina Inc | 1002 S. Front Street | Wilmington | NC | 28402
T-56-NC-2041 | Koch Petroleum | 3325 River Road | Wilmington | NC | 28412
T-56-NC-2042 | Koch Petroleum | 3334 River Rd. | Wilmington | NC | 28412
T-56-NC-2043 | Apex Oil | 3314 River Road | Wilmington | NC | 28403
T-45-ND-3500 | Williams Pipeline Grand Forks | 3930 Gateway Drive | Grand Forks | ND | 58203
T-45-ND-3501 | Williams Pipe Line Fargo | 902 Main Avenue East | West Fargo | ND | 58078
T-45-ND-3502 | Amoco Oil Jamestown | 10 Mi West on I-94 Stand Spur | Jamestown | ND | 58401
T-45-ND-3503 | Kaneb Pipe Line Jamestown | 3790 Hwy 281 SE | Jamestown | ND | 58401
T-45-ND-3504 | CENEX Minot | 700 Second Street SW | Minot | ND | 58701
T-45-ND-3505 | Amoco Oil Mandan |  | Mandan | ND | 58554
T-47-NE-3600 | Kaneb Pipe Line Columbus | Highway 30 | Columbus | NE | 68601
T-47-NE-3601 | Kaneb Pipe Line Geneva | U S Highway 81 | Geneva | NE | 68361
T-47-NE-3602 | Williams Pipe Line Doniphan | 12275 South US Hwy 281 | Doniphan | NE | 68832
T-47-NE-3603 | Conoco Lincoln Products | Route 1 | Roca | NE | 68430
T-47-NE-3605 | Williams Pipe Line Lincoln | 2000 Saltillo Road | Roca | NE | 68430
T-47-NE-3606 | Kaneb Pipe Line Norfolk | Highway 81 | Norfolk | NE | 68701
T-47-NE-3607 | Kaneb Pipe Line North Platt | Rural Route Four | North Platte | NE | 69101
T-47-NE-3608 | Williams Pipe Line Omaha | Seventh & Yates Street | Omaha | NE | 68103
T-47-NE-3609 | Conoco Pipeline Sidney | Rural Route 1 | Sidney | NE | 69162
T-47-NE-3610 | Kaneb Pipe Line Osceola | Rural Route 1 | Osceola | NE | 68651
T-02-NH-1050 | Sprague Energy Newington | Spaulding Tpk. River Rd. | Newington | NH | 03801
T-02-NH-1054 | Sprague Energy Portsmouth | Gosseling Rd. | Portsmouth | NH | 03801
T-02-NH-1056 | Irving Oil Corp. Mainway | 50 Preble Way | Portsmouth | NH | 03801
T-04-NH-1057 | Sprague Energy Newington | Avery Lane | Newington | NH | 03801
T-22-NJ-1500 | Amerada Hess—Bayonne | Lower Hook Road | Bayonne | NJ | 07002
T-22-NJ-1501 | Coastal Oil Bayonne | Foot of East Fifth Street | Bayonne | NJ | 07002
T-22-NJ-1502 | Amerada Hess—Newark Delanny | 1111 Delanny St. | Newark | NJ | 07105
T-22-NJ-1505 | Amerada Hess—Bogota | 238 West Fort Lee Road | Bogota | NJ | 07503
T-22-NJ-1506 | Amoco Oil Carteret Terminal | 760 Roosevelt Avenue | Carteret | NJ | 07008
T-22-NJ-1508 | Amerada Hess—Edgewater | 615 River Road | Edgewater | NJ | 07020
T-22-NJ-1511 | Koch Petroleum Group-Gloucester | Across Delaware River from PA | Gloucester City | NJ | 08030
T-22-NJ-1512 | Tosco Tremley PT | Foot of Southwood Ave | Linden | NJ | 07036
T-22-NJ-1513 | CITGO Linden | 4801 South Wood Avenue | Linden | NJ | 07036
T-22-NJ-1514 | Bayway Refining Co | 1100 US Highway One | Linden | NJ | 07036
T-22-NJ-1515 | Gulf Oil Linden | 2600 Marshes Dock Road | Linden | NJ | 07036
T-22-NJ-1516 | Mobil Oil Linden | South Wood Avenue | Linden | NJ | 07036
T-22-NJ-1518 | Amerada Hess—Newark Doremus | 148-182 Doremus Ave. | Newark | NJ | 07105
T-22-NJ-1519 | B P Oil Newark | Building 350 Coastel St | Port Newark | NJ | 07114
T-22-NJ-1520 | Getty Terminal Newark | 86 Doremus Rd | Newark | NJ | 07105
T-22-NJ-1521 | Motiva Enterprises LLC | 909 Delaney Street | Newark | NJ | 07105
T-22-NJ-1522 | Stratus Petroleum Newark | 678 Doremus Ave | Newark | NJ | 07105
T-22-NJ-1523 | Sun Newark | 436 Doremus Avenue | Newark | NJ | 07105
T-22-NJ-1524 | B P Oil Paulsboro | 303 Mantua Avenue | Paulsboro | NJ | 08066
T-22-NJ-1525 | GATX Terminals Paulsboro | 3rd St & Billingsport Road | Paulsboro | NJ | 08066
T-22-NJ-1526 | Valero Refining Company—New Jersey | 800 Billingsport | Paulsboro | NJ | 08066
T-22-NJ-1528 | Amerada Hess—Pennsauken | One Derousse Avenue | Pennsauken | NJ | 08110
T-22-NJ-1530 | Amerada Hess—Perth Amboy | State Street | Perth Amboy | NJ | 08861
T-22-NJ-1531 | Chevron USA Perth Amboy | 1200 State St | Perth Amboy | NJ | 08861
T-22-NJ-1533 | CITGO Petty's Island | Route 36 & Deleware River | Pennsauken | NJ | 08110
T-22-NJ-1534 | Sun Piscataway | 1028 Stelton Road | Piscataway | NJ | 08854
T-22-NJ-1535 | Amerada Hess—Port Reading | Cliff Road | Port Reading | NJ | 07064
T-22-NJ-1536 | Amerada Hess—Secaucus | 35 Meadowlands Parkway | Secaucus | NJ | 07094
T-22-NJ-1537 | Motiva Enterprises, LLC—Sewaren | 115 State Street | Sewaren | NJ | 07077
T-22-NJ-1538 | Motiva Enterprises LLC—Sewaren | 111 State Street | Sewaren | NJ | 07077
T-22-NJ-1540 | Gulf Oil Thorofare | 358 Kings Highway | Thorofare | NJ | 08086
T-22-NJ-1542 | Mobil Oil Trenton | 2785 Lamberton Road | Trenton | NJ | 08611
T-22-NJ-1544 | Coastal Eagle Point Westville | U S Route 130 | South Westville | NJ | 08093
T-22-NJ-1545 | Amerada Hess—Woodbridge | Smith Street & Convery Blvd. | Perth Amboy | NJ | 08861
T-22-NJ-1547 | Duck Island Terminal Inc. | 1463 Lamberton Road | Trenton | NJ | 08677
T-22-NJ-1548 | SLF, Inc. T/a Consumers Oil | 1473 Lamberton Road | Trenton | NJ | 08611
T-85-NM-4251 | Chevron USA Albuquerque | 3200 Broadway SE within city | Albuquerque | NM | 87105
T-85-NM-4252 | Conoco Albuquerque | 4036 Broadway Southeast | Albuquerque | NM | 87105
T-85-NM-4253 | Diamond Albuquerque | 6348 State Road 303 SW | Albuquerque | NM | 87105
T-85-NM-4254 | Phillips 66 Albuquerque | 6356 State Road 47 S W | Albuquerque | NM | 87105
T-85-NM-4255 | Giant Industries—Albuquerque | 3209 Broadway Southeast | Albuquerque | NM | 87105
T-85-NM-4256 | Navajo Refining Artesia | US Highway 82, Drawer 159 | Artesia | NM | 88210
T-85-NM-4257 | Giant Refining—Bloomfield | # 50 County Road 4990 | Bloomfield | NM | 87413
T-85-NM-4258 | Giant Refining—Ciniza | I-40 Exit 39 | Jamestown | NM | 87347
T-85-NM-4259 | S T Services Alamogordo | 6026 Hwy 54 South | Alamogordo | NM | 88310
T-86-NM-4250 | Navajo Refining Co. | 170 Rd. 4980 | Bloomfield | NM | 87413
T-86-NM-4261 | USA Petroleum Southwest Terminal | U.S. 10 & NM St. Rd. 29 | Road Forks | NM | 88045
T-86-NM-4262 | Navajo Refining Company | 1001 E. Martinez | Moriarty | NM | 87035
T-88-NV-4350 | Calnev Pipe Line Las Vegas | 5049 N Sloan | Las Vegas | NV | 89115
T-88-NV-4353 | Kinder Morgan—Sparks | 301 Nugget Avenue | Sparks | NV | 89431
T-88-NV-4354 | Shore Terminals LLC | 525 Nugget Avenue | Sparks | NV | 89431
T-88-NV-4358 | Berry-Hinckley Terminal, Inc. | 275 Nugget Ave | Sparks | NV | 89431
T-88-NV-4359 | Rebel Oil Las Vegas | 5054 N Sloane Lane | Las Vegas | NV | 89115
T-88-NV-4360 | Berry Hinckley Terminal-Sparks | 147 South Stanford Way | Sparks | NV | 89431
T-11-NY-1300 | Carbo Industries, Inc. | 555 Doughty Blvd. | Inwood | NY | 11696
T-11-NY-1301 | Amoco Oil Brooklyn | 125 Apollo St. | Brooklyn | NY | 11222
T-11-NY-1302 | Metro Terminals Brooklyn | 498 Kingsland Avenue | Brooklyn | NY | 11222
T-11-NY-1303 | Tosco Pipeline Plainview | 150 Fairchild Avenue | Plainview | NY | 11803
T-11-NY-1304 | Motiva Enterprises LLC | 25 Paidge Ave. | Brooklyn | NY | 11222
T-11-NY-1305 | Mobil Oil Inwood | 464 Doughty Blvd | Inwood | NY | 11696
T-11-NY-1306 | Lefferts Oil Terminal Inc. | 31-70 College Point Blvd | Flushing | NY | 11354
T-11-NY-1307 | Castle Astoria | 500 Mamaroneck Avenue | Harrison | NY | 10528
T-11-NY-1308 | Amerada Hess—Brooklyn | 722 Court Street | Brooklyn | NY | 11231
T-11-NY-1309 | Mobil Oil Glenwood Landing | Shore & Glenwood Rd | Glenwood Landing | NY | 11547
T-11-NY-1310 | Tosco Pipeline Holtsville | 586 Union Ave | Holtsville | NY | 11742
T-11-NY-1311 | Getty Terminal-Long Island | 30-23 Greenpoint Ave. | Long Island City | NY | 11101
T-11-NY-1312 | Motiva Enterprises LLC | 74 East Avenue | Lawrence | NY | 11559
T-11-NY-1313 | Bayside Fuel Oil Depot Corp. | One North 12th Street | Brooklyn | NY | 11211
T-11-NY-1315 | RAD Operating Oceanside | 7 Hampton Road | Oceanside | NY | 11572
T-11-NY-1316 | Bayside Fuel Oil Depot Corp | 510 Sackett Street | Brooklyn | NY | 11214
T-11-NY-1317 | Lewis Oil Port Washington | 65 Shore Road | Port Washington | NY | 11050
T-11-NY-1318 | Tosco—Riverhead | 212 Sound Shore Road | Riverhead | NY | 11901
T-11-NY-1319 | Tosco Pipeline East Setauket | 19 Bell Meade Road | East Setauket | NY | 11733
T-11-NY-1323 | Ditmas Oil Associates Inc | 364 Maspeth Avenue | Brooklyn | NY | 11211
T-11-NY-1324 | Carbo Industries Inc | 1 Bay Blvd | Lawerence | NY | 11559
T-11-NY-1325 | Bayside Fuel Oil Corp. | 1100 Grand Street | Brooklyn | NY | 11211
T-11-NY-1326 | Bayside Fuel Oil Depot | 1776 Shore Parkway | Brooklyn | NY | 11214
T-11-NY-1329 | Bay Terminals of Rockaway, Inc. | 75-02 Astel Blvd. | Rockaway | NY | 11692
T-11-NY-1330 | Lefferts Oil Terminal | Bldg. 140 JFK Inter'l Airport | Jamaica | NY | 11430
T-11-NY-1331 | A. R. Fuels, Inc. | 2125 Mill Ave. | Brooklyn | NY | 11234
T-11-NY-1332 | Bayside Fuel Oil Corporation | 537 Smith Street | Brooklyn | NY | 11231
T-11-NY-1333 | The Energy Conservation Group LLC | DBA Skaggs-Walsh | College Point | NY | 11356
T-11-NY-1460 | Mobil Oil Cold Spring Harbor | 95 Shore Road | Cold Spring | NY | 11724
T-13-NY-1352 | Castle Port Morris Terminals | 290 Locust Avenue | Bronx | NY | 10454
T-13-NY-1353 | Stuyvesant Fuel Service-Bronx | 1040 East 149th Street | Bronx | NY | 10455
T-13-NY-1354 | Getty Terminal Bronx | 4301 Boston Post Road | Bronx | NY | 10466
T-13-NY-1355 | Mobil Oil Port Mobil | 4101 Arthur Kill Rd | Staten Island | NY | 10309
T-13-NY-1356 | Amoco Oil Mount Vernon | 40 Canal St. | Mount Vernon | NY | 10550
T-13-NY-1357 | Fred M Schildwachter & Sons | 1400 Ferris Place | Bronx | NY | 10461
T-13-NY-1358 | Meenan Peekskill | Roa Hook rd | Peekskill | NY | 10566
T-13-NY-1359 | Panco Equipment Corp | Main St Box 659 | Stoney Point | NY | 10980
T-13-NY-1360 | Westmore Fuel Co Inc | 2 Purdy Ave | Port Chester | NY | 10573
T-13-NY-1361 | West Vernon Petroleum Corp | 701 S Columbus Ave | Mount Vernon | NY | 10550
T-13-NY-1362 | GATX Staten Island | 500 Western Ave | Staten Island | NY | 10302
T-13-NY-1363 | A Tarricone Yonkers | 91 Alexander St. | Yonkers | NY | 10701
T-13-NY-1364 | Commander Oil Corporation | 240 East Shore Road | Great Neck | NY | 11022
T-13-NY-1365 | Castle North Terminals, Inc. | 11 River Street | Sleepy Hollow | NY | 10591
T-14-NY-1400 | Agway Petroleum Albany | 184 Port Rd | Albany | NY | 12202
T-14-NY-1401 | Cibro Petroleum Prod Albany | Port of Albany | Albany | NY | 12202
T-14-NY-1402 | Citgo Petroleum Corp Glenmont | 495 River Road | Glenmont | NY | 12077
T-14-NY-1403 | Mobil Oil Albany | 50 Church Street | Albany | NY | 12202
T-14-NY-1404 | Petroleum Fuel Albany | 54 Riverside Avenue | Rensselaer | NY | 12144
T-14-NY-1405 | Sears Petroleum & Transport Co | Route 144 552 River Road | Glenmont | NY | 12077
T-14-NY-1406 | Stratus Petroleum Green Isle | 1 Osgood Ave. | Green Island | NY | 12183
T-14-NY-1409 | Agway Petroleum Corp. Milton | Sands Ave. | Milton | NY | 12547
T-14-NY-1411 | Coastal Oil Newburgh | Hudson River | Newburgh | NY | 12551
T-14-NY-1413 | Mobil Oil Newburgh | 20 River Road | Newburgh | NY | 12551
T-14-NY-1414 | Sun Refining New Windsor | 49 River Road | New Windsor | NY | 12553
T-14-NY-1415 | Amerada Hess—Rensselaer | River Road E Greenbush | Rensselaer | NY | 12144
T-14-NY-1416 | Bray Terminals Rensselaer | 50 Riverside Drive | Rensselaer | NY | 12144
T-14-NY-1417 | Sprague Energy Rensselaer | Riverside Avenue, PO Box 215 | Rensselaer | NY | 12144
T-14-NY-1418 | Getty Terminal Rensselaer | 49 Riverside Avenue | Rensselaer | NY | 12144
T-14-NY-1420 | TransMontaigne Terminaling, Inc. | 58 Riverside Avenue | Rensselaer | NY | 12144
T-14-NY-1421 | Amerada Hess—Roseton | 590 River Road | Newburgh | NY | 12550
T-14-NY-1422 | Effron Fuel Oil Co | 154 Garden St | Poughkeepsie | NY | 12601
T-16-NY-1450 | Stratus Petro Baldwinsville | 7431 Hillside Road | Baldwinsville | NY | 13027
T-16-NY-1451 | Mobil Oil Binghamton | 3301 Old Vestal Rd | Vestal | NY | 13850
T-16-NY-1452 | Amerada Hess—Rochester—Cairn | 22 Cairn St. | Rochester | NY | 14611
T-16-NY-1453 | Coastal Oil New York, Inc. | 3121 Shippers Road | Vestal | NY | 13851
T-16-NY-1454 | CITGO Vestal | 3212 Old Vestal Road | Vestal | NY | 13850
T-16-NY-1455 | Sun Binghamton | 4324 Watson Boulevard | Johnson City | NY | 13790
T-16-NY-1456 | Agway Petroleum Corp. Brewerton | Rt. 37 River Road | Brewerton | NY | 13029
T-16-NY-1457 | United Refining Tonawanda | 4545 River Road | Tonawanda | NY | 14150
T-16-NY-1458 | Mobil Oil Buffalo | 625 Elk St. | Buffalo | NY | 14210
T-16-NY-1459 | Noco Energy Corp | 700 Grand Island Blvd | Tonawanda | NY | 14151
T-16-NY-1461 | IPT, LLC, INC. | End of Riverside Extension | Rennselaer | NY | 12144
T-16-NY-1462 | Agway Petroleum Corp. Geneva | West River Road | Geneva | NY | 14456
T-16-NY-1463 | Agway Petroleum Corp. Marcy | 9586 River Road | Marcy | NY | 13403
T-16-NY-1464 | Amerada Hess—Marcy | 9570 River Rd. | Marcy | NY | 13403
T-16-NY-1465 | Bray Terminals Marcy | 9660 River Rd | Marcy | NY | 13403
T-16-NY-1468 | Agway Petroleum Rochester | 754 Brooks Ave. | Rochester | NY | 14619
T-16-NY-1469 | Amerada Hess—Rochester Lyell | 1975 Lyell Avenue | Rochester | NY | 14606
T-16-NY-1470 | Griffith Oil-Rochester | 335 McKee Rd | Rochester | NY | 14611
T-16-NY-1471 | Griffith Oil Co., Inc. Big Flats | 3351 Rt. 352 | Big Flats | NY | 14814
T-16-NY-1472 | Mobil Oil Rochester | 675 Brooks Avenue | Rochester | NY | 14619
T-16-NY-1473 | Sun Rochester | 1840 Lyell Avenue | Rochester | NY | 14606
T-16-NY-1474 | United Refining Rochester | 1075 Chili Avenue | Rochester | NY | 14624
T-16-NY-1476 | Amerada Hess—Warners | 6700 Herman Rd. | Warners | NY | 13164
T-16-NY-1480 | Mobil Oil Syracuse | 502 Solar Street | Syracuse | NY | 13261
T-16-NY-1482 | Sun Syracuse | 540 Solar Street | Syracuse | NY | 13204
T-16-NY-1484 | Sun Tonawanda | 3733 River Road | Tonawanda | NY | 14150
T-16-NY-1486 | Mobil Oil Utica | 37 Wurz Avenue | Utica | NY | 13502
T-16-NY-1487 | Sears Oil Marcy Terminal | 9788 River Road | Marcy | NY | 13403
T-16-NY-1488 | Agway Petroleum Corp. Vestal | 3113 Shippers Rd. | Vestal | NY | 13851
T-16-NY-1489 | Amerada Hess Corp. Vestal | 440 Prentice Road | Vestal | NY | 13850
T-16-NY-1492 | Alaskan Oil Co.—Baldwinsville | 7437 Hillside Road | Baldwinsville | NY | 13027
T-16-NY-1493 | Mohawk Valley Oil Co. Marcy | 9678 River Road | Marcy | NY | 13403
T-16-NY-1494 | Alaskan Oil- Rochester | 1935 Lyell Avenue | Rochester | NY | 14606
T-16-NY-1495 | Kingston Oil Supply-Port Ewen | North Broadway | Port Ewen | NY | 12166
T-16-NY-1496 | Kingston Oil Supply- Catskill | End Lower Main St. | Catskill | NY | 12414
T-16-NY-1497 | Walter Davenport & Son | 625 Sawkill Rd. | Kingston | NY | 12401
T-16-NY-1498 | Riverstar—Highland | 42 River Rd. | Highland | NY | 12528
T-16-NY-1499 | Warex Terminals Corp-Newburgh | 1 South Water Street | Newburgh | NY | 12550
T-31-OH-3100 | MAPLLC Cincinnati | 4015 River Road | Cincinnati | OH | 45204
T-31-OH-3101 | MAPLLC Columbus | 3855 Fisher Road | Columbus | OH | 43228
T-31-OH-3102 | MAPLLC Heath | 840 Heath Road | Heath | OH | 43056
T-31-OH-3103 | MAPLLC Marietta | Old Rt 7 & Moores Junction | Marietta | OH | 45750
T-31-OH-3104 | B P Oil Cincinnati | 930 Tennessee Avenue | Cincinnati | OH | 45229
T-31-OH-3105 | B P Oil Columbus | 303 North Wilson Road | Columbus | OH | 43204
T-31-OH-3106 | B P Oil Dayton | 621 Brandt Pike | Dayton | OH | 45404
T-31-OH-3107 | Equilon Enterprises LLC | 4033 Fisher Road | Columbus | OH | 43228
T-31-OH-3108 | B P Oil Sciotoville | 106 Harding Ave | Portsmouth | OH | 45662
T-31-OH-3110 | ITAPCO, Inc., Marietta | RT 7 & Milerun Road | Marietta | OH | 45750
T-31-OH-3111 | Midwest Terminal Columbus | 3866 Fisher Rd | Columbus | OH | 43228
T-31-OH-3112 | MAPLLC Columbus | 4125 Fisher Rd | Columbus | OH | 43228
T-31-OH-3113 | MAPLLC Lebanon | 999 West State Rt.122 | Lebanon | OH | 45036
T-31-OH-3114 | Equilon Enterprises LLC | 3651 Fisher Rd. | Columbus | OH | 43228
T-31-OH-3115 | Equilon Enterprises LLC | 801 Brandt Pike | Dayton | OH | 45404
T-31-OH-3116 | Sun Columbus | 3499 West Broad Street | Columbus | OH | 43204
T-31-OH-3117 | Sun Dayton | 1708 Farr Drive | Dayton | OH | 45404
T-31-OH-3118 | TEPPCO Lebanon | 2700 Hart Road | Lebanon | OH | 45036
T-31-OH-3119 | TEPPCO | 3590 Yankee Rd. | Middletown | OH | 45043
T-31-OH-3120 | CITGO—Dublin | 6433 Cosgray Road | Dublin | OH | 43016
T-31-OH-3121 | CITGO—Dayton | 1800 Farr Drive | Dayton | OH | 45404
T-31-OH-3122 | Boswell Oil Company | 5 W 4th St Floor 2500 | Cincinnati | OH | 45202
T-34-OH-3140 | MAPLLC Refinery Canton | 2408 Gamfrinus Rd SW | Canton | OH | 44706
T-34-OH-3142 | Aurora Terminal & Trans | 1519 S Chillicothe Rd | Aurora | OH | 44202
T-34-OH-3143 | B P Oil Canton | 807 Hartford Southeast | Canton | OH | 44707
T-34-OH-3144 | B P Oil Cleveland | 4850 E 49th Street | Cuyahoga Hts | OH | 44125
T-34-OH-3145 | B P Oil Lorain | 12545 S Avon Belden Rd | Grafton | OH | 44044
T-34-OH-3146 | Equilon Enterprises | 817 West Vine Street | Lima | OH | 45804
T-34-OH-3147 | B P Oil Tiffin | 197 Wall Street | Tiffin | OH | 44883
T-34-OH-3148 | B P Oil Toledo | 2450 Hill Avenue | Toledo | OH | 43607
T-34-OH-3149 | Delta Fuels Toledo | 1820 South Front | Toledo | OH | 43605
T-34-OH-3150 | Fleet Supplies | 250 Mahoning Ave | Cleveland | OH | 44101
T-34-OH-3151 | MAPLLC Brecksville | 10439 Brecksville Road | Brecksville | OH | 44141
T-34-OH-3152 | MAPLLC Lima | 2990 South Dixie Highway | Lima | OH | 45804
T-34-OH-3153 | MAPLLC Oregon | 4131 Seaman Road | Oregon | OH | 43616
T-34-OH-3154 | MAPLLC Steubenville | 28371 Kingsdale Road | Steubenville | OH | 43952
T-34-OH-3155 | MAPLLC Youngstown | 1140 Bears Den Road | Youngstown | OH | 44511
T-34-OH-3157 | Equilon Enterprises LLC | 2201 W. Third Street | Cleveland | OH | 44113
T-34-OH-3158 | Equilon Enterprises LLC | 1500 W. Buckeye Rd. | Lima | OH | 45804
T-34-OH-3159 | Sun Akron | 999 Home Avenue | Akron | OH | 44310
T-34-OH-3160 | Sun Cleveland | 3200 Independence Road | Cleveland | OH | 44105
T-34-OH-3161 | Sun Toledo | 1601 Woodville Road | Toledo | OH | 43605
T-34-OH-3162 | Sun Company Youngstown | 6331 Southern Boulevard | Youngstown | OH | 44512
T-34-OH-3164 | CITGO—Tallmadge | 1595 Southeast Avenue | Tallmadge | OH | 44278
T-34-OH-3165 | CITGO—Oregon | 1840 Otter Creek Road | Oregon | OH | 43616
T-34-OH-3166 | MAPLLC Bellevue | Rural Route 4 | Bellevue | OH | 44811
T-34-OH-3167 | B P Oil Niles | 1001 Youngstown Warren Rd | Niles | OH | 41446
T-34-OH-3169 | Equilon Enterprises LLC | 2844 Summit St | Toledo | OH | 43611
T-34-OH-3170 | Equilon Enterprises LLC | 10346 Brecksville Rd | Brecksville | OH | 44141
T-34-OH-3173 | TransMontaigne Terminaling | 15982 U.S Rte 127 EW | Bryan | OH | 43506
T-73-OK-2600 | Total Petroleum Ardmore | Hwy 142 Bypass | Ardmore | OK | 73401
T-73-OK-2606 | Williams Pipeline Enid | 1401 North 30th Street | Enid | OK | 73701
T-73-OK-2608 | Conoco—Jenks | Route Two | Jenks | OK | 74037
T-73-OK-2609 | Phillips 66 Laverne | U S 283 | Laverne | OK | 73848
T-73-OK-2610 | Koch Hydrocarbon-Medford | US 81 | Medford | OK | 73759
T-73-OK-2612 | Conoco Oklahoma City | 4700 NE Tenth | Oklahoma City | OK | 73111
T-73-OK-2613 | Williams Pipeline Co Okla City | 251 N Sunny Lane | Del City | OK | 73117
T-73-OK-2614 | Equilon Enterprises LLC | 951 N. Vickie | Oklahoma City | OK | 73117
T-73-OK-2616 | Williams Pipeline Oklahoma Cty | 1250 S High St | Oklahoma City | OK | 73129
T-73-OK-2617 | Conoco—Ponca City | South Highway 60 | Ponca City | OK | 74601
T-73-OK-2618 | Sinclair Pipeline Shawnee | 39101 MacArthur Road | Shawnee | OK | 74802
T-73-OK-2620 | Sinclair Pipeline Tulsa | 1307 W 35th St | Tulsa | OK | 74107
T-73-OK-2621 | Sun—Tulsa | 1700 South Union | Tulsa | OK | 74102
T-73-OK-2622 | Williams Pipeline Tulsa | 2120 S 33rd Ave | Tulsa | OK | 74107
T-73-OK-2623 | Diamond Shamrock Turpin | Hwy 64 & Junction Rt 2 | Turpin | OK | 73950
T-73-OK-2624 | Gary Williams Energy Corp | 906 South Powell | Wynnewood | OK | 73098
T-93-OR-4452 | Tidewater Terminal Umatilla | 535 Port Avenue | Umatilla | OR | 97882
T-93-OR-4453 | Tosco Coos Bay | 2640 North Bayshore | Coos Bay | OR | 97420
T-93-OR-4454 | SFPP LP Eugene | 1765 Prairie Road | Eugene | OR | 97402
T-93-OR-4455 | ARCO Portland Terminal | 9930 NW St Helens Rd | Portland | OR | 97231
T-93-OR-4456 | Chevron USA Portland | 5531 Northwest Doane Street | Portland | OR | 97210
T-93-OR-4457 | GATX Terminals Portland | 11400 NW St Helen's Road | Portland | OR | 97283
T-93-OR-4458 | McCall Oil Portland | 5480 NW Front Ave | Portland | OR | 97210
T-93-OR-4459 | Mobil Portland | 9420 Northwest St Helen's Rd | Portland | OR | 97231
T-93-OR-4460 | GATX Portland | 5880 NW St Helen's Road | Portland | OR | 97210
T-93-OR-4461 | Equilon Enterprises LLC | 3800 NW St. Helen's Road | Portland | OR | 97210
T-93-OR-4462 | Shore Terminals LLC | 9100 NW St Helen's Road | Portland | OR | 97231
T-93-OR-4463 | Time Oil Portland Burgard | 12005 North Burgard Street | Portland | OR | 97203
T-93-OR-4464 | Tosco Portland | 5528 Northwest Doane | Portland | OR | 97210
T-23-PA-1700 | Agway Petroleum Corp.—Macungie | Buckeye Road | Macungie | PA | 18062
T-23-PA-1701 | Mobil Oil Allentown | 1134 North Quebec Street | Allentown | PA | 18103
T-23-PA-1702 | Farm & Home Oil Co.—Macungie | Buckeye Road | Macungie | PA | 18062
T-23-PA-1703 | Gulf Oil—Dupont | 674 Suscon Rd | Pittston Township | PA | 18641
T-23-PA-1704 | Carlos R Leffler Inc Macungie | 5088 Shippers Lane | Macungie | PA | 18062
T-23-PA-1705 | Petron Oil Corporation | One Ward Street | Chester | PA | 19013
T-23-PA-1706 | Petroleum Products—Avoca | 801 Suscon Rd. | Avoca | PA | 18641
T-23-PA-1707 | Petroleum Products Du Pont | Suscon Road | Avoca | PA | 18641
T-23-PA-1708 | Carlos R Leffler Inc S Spring | Mountain Home Road | Sinking Spring | PA | 19608
T-23-PA-1709 | Montour Oil Service | 112 Broad St | Montoursville | PA | 17754
T-23-PA-1710 | Sun Exton | 601 East Lincoln Hwy | Exton | PA | 19341
T-23-PA-1711 | Sun—Fullerton | 2480 Main St | Whitehall | PA | 18052
T-23-PA-1713 | Mobil Oil Harrisburg | 5140 Paxton Street | Harrisburg | PA | 17111
T-23-PA-1714 | Petroleum Products Harrisburg | 3300 Industrial Road | Harrisburg | PA | 17110
T-23-PA-1715 | Petroleum Products Harrisburg | RD #5 Texaco Drive | Mechanicsburg | PA | 17055
T-23-PA-1716 | Petroleum Products Highspire | 900 Eisenhower Blvd | Middletown | PA | 17057
T-23-PA-1717 | Coastal Oil New York Inc | Sylvan Dell Rd | South Williamsport | PA | 17701
T-23-PA-1718 | Mobil Oil Malvern | 8 South Malin Rd | Malvern | PA | 19406
T-23-PA-1720 | Sun Kingston | 60 S Wyoming Avenue | Edwardsville | PA | 18704
T-23-PA-1721 | Mobil Oil Lancaster | 1360 Manheim Pike | Lancaster | PA | 17604
T-23-PA-1722 | Sun Malvern | Lincoln Hwy & Malin Road | Malvern | PA | 19355
T-23-PA-1724 | Petroleum Products-Mechanicsbu | Sinclair Rd | Mechanicsburg | PA | 17055
T-23-PA-1725 | Gulf Oil Mechanicsburg | 5125 Simpson Ferry Rd | Mechanicsburg | PA | 17055
T-23-PA-1726 | Sun Mechanicsburg | 5145 Simpson Ferry Road | Mechanicsburg | PA | 17055
T-23-PA-1727 | Sun Montello | Fritztown Road | Sinking Spring | PA | 19608
T-23-PA-1728 | Petroleum Prod Northumberland | Rt 11 North RD 1 | Northumberland | PA | 17857
T-23-PA-1729 | Sun Northumberland | Rt 11 North Rd 1 | Northumberland | PA | 17857
T-23-PA-1730 | Amerada Hess—Philadelphia | 1630 South 51st Street | Philadelphia | PA | 19143
T-23-PA-1731 | Amoco Oil Philadelphia | 63rd & Passyunk Avenue | Philadelphia | PA | 19153
T-23-PA-1732 | Bayway Refining Co.—Phila | G Street & Hunting Park Ave. | Philadelphia | PA | 19124
T-23-PA-1733 | Pipeline Petroleum-MaCungie | Shippers Lane | Macungie | PA | 18062
T-23-PA-1734 | Exxon USA Philadelphia | 6850 Essington Avenue | Philadelphia | PA | 19153
T-23-PA-1735 | Artex Inc | Rt 54 & Lakeview Rd | Barnesville | PA | 18214
T-23-PA-1736 | Sun Philadelphia | 2700 W Passyunk Avenue | Philadelphia | PA | 19145
T-23-PA-1737 | Support Terminals Operating LP | 67th & Schuylkill River | Philadalphia | PA | 19153
T-23-PA-1738 | Pickelner Fuel Company Inc | 210 Locust St | Williamsport | PA | 17701
T-23-PA-1739 | TravelCenters of America, Inc. | Rt 11 & Cemetary Rd. | Beach Haven | PA | 18601
T-23-PA-1740 | Montour Oil Service-Harrisburg | 80 South 40th St. | Harrisburg | PA | 17111
T-23-PA-1741 | Montour Oil Service-Montoursville | Rt I-180/Warrensville | Montoursville | PA | 17754
T-23-PA-1742 | Petroleum Products-Sinking Spr | Mountain Home Rd | Sinking Spring | PA | 19608
T-23-PA-1743 | Carlos R Leffler Inc | Sylvan Dell Road | South Williamsport | PA | 17701
T-23-PA-1744 | Sun Tamaqua | Tuscarora State Park Rd | Tamaqua | PA | 18252
T-23-PA-1745 | C R Leffler Tuckerton | 4030 Pottsville Pike | Reading | PA | 19605
T-23-PA-1746 | Sun Twin Oaks | 4041 Market Street | Aston | PA | 19014
T-23-PA-1747 | Sun Company Inc (R&M) | 9th Green St | Marcus Hook | PA | 19061
T-23-PA-1748 | Gulf Oil Whitehall | 2451 Main Street | Whitehall | PA | 18052
T-23-PA-1749 | Gulf Oil Williamsport | Sylvan Dell Rd | Williamsport | PA | 17703
T-23-PA-1751 | Sun Willow Grove | 3290 Sunset Lane | Hatboro | PA | 19040
T-23-PA-1752 | Berks Fuel Storage Inc-Reading | 130 Whitman Road | Reading | PA | 19605
T-23-PA-1753 | Meenan Oil Co Tullytown | 113 Main Street | Tullytown | PA | 19007
T-23-PA-1754 | C R Leffler New Kingston | 236 Locust Pt Road | New Kingston | PA | 17702
T-23-PA-1755 | Major Oil-Philadelphia | 501 E. Hunting Park Ave. | Philadelphia | PA | 19124
T-23-PA-1756 | F C Haab Co Inc | Schuylkill River & Morris Rd | Philadelphia | PA | 19145
T-23-PA-1757 | Sun Company Inc (R&M) | Hewes Ave & Philadelphia Pike | Marcus Hook | PA | 19061
T-23-PA-1758 | Getty Oil—Highspire | 911 Eisenhower Blvd. | Highspire | PA | 17034
T-23-PA-1759 | TransMontaigne Terminaling, Inc. | 58th St. & Schuylkill River | Philadelphia | PA | 19142
T-23-PA-1763 | Two River Terminal-Duncannon | 27 Chevron Drive | Duncannon | PA | 17020
T-23-PA-1764 | American Refining Bradford | 77 North Kendall Ave. | Bradford | PA | 16701
T-25-PA-1760 | Buckeye Tank Term Coraopolis | 520 Narrows Run Road | Coraopolis | PA | 15108
T-25-PA-1761 | Sun Delmont | Route 66 North | Delmont | PA | 15626
T-25-PA-1762 | Boswell Oil Co Dravosburg | 702 Washington Avenue | Dravosburg | PA | 15034
T-25-PA-1765 | Petroleum Products-E. Freedom | Old Rte US 220 | East Freedom | PA | 16637
T-25-PA-1767 | Petroleum Products Eldorado | Burns Avenue | Altoona | PA | 16602
T-25-PA-1768 | MAPLLC Floreffe | 204 Glass House Road | Floreffe | PA | 15025
T-25-PA-1769 | B P Oil Greensburg | Rural Delivery 6 | Greensburg | PA | 15601
T-25-PA-1771 | American Refining Indianola | State Route 910 | Indianola | PA | 15051
T-25-PA-1773 | MAPLLC Petroleum-Midland | Rt. 68 | Midland | PA | 15059
T-25-PA-1776 | Exxon USA Pittsburgh | 2760 Neville Road | Pittsburgh | PA | 15225
T-25-PA-1777 | Gulf Oil Pittsburgh | 400 Grand Ave | Pittsburgh | PA | 15225
T-25-PA-1778 | Gulf Oil Pittsburgh/Delmont | Route 22 | Delmont | PA | 15626
T-25-PA-1779 | Pennzoil Products Pittsburgh | 54th Street and AVRR | Pittsburgh | PA | 15201
T-25-PA-1780 | Motiva Enterprises LLC | Nine Thorn Street | Coraopolis | PA | 15108
T-25-PA-1781 | Sun Pittsburgh | 5733 Butler Street | Pittsburgh | PA | 15201
T-25-PA-1782 | Pennzoil Products Rouseville | Two Main Street | Rouseville | PA | 16344
T-25-PA-1783 | United Refining Warren | 15 Bradley St | Warren | PA | 16365
T-25-PA-1785 | Gulf Oil Altoona | 6033 Sixth Avenue | ALtoona | PA | 16602
T-25-PA-1788 | Sun Altoona | Route 764 Sugar Run Road | Altoona | PA | 16601
T-25-PA-1789 | Sun Vanport | Route 68 & Division Lane | Vanport | PA | 15009
T-25-PA-1790 | Guttman Oil Belle Vernon | 200 Speers Road | Belle Vernon | PA | 15012
T-25-PA-1791 | Sun Blawnox | Freeport Road & Boyd Avenue | Pittsburgh | PA | 15238
T-25-PA-1792 | B P Oil Coraopolis | Access State Route 51 | Coraopolis | PA | 15108
T-05-RI-1200 | Getty Terminal Providence | Dexter Rd & Massasoit Ave | East Providence | RI | 02914
T-05-RI-1201 | Sprague Energy Providence | 144 Allens Avenue | Providence | RI | 02903
T-05-RI-1203 | Capital Terminal Company | 100 Dexter Road | East Providence | RI | 02914
T-05-RI-1205 | Motiva Enterprises LLC | 520 Allens Avenue | Providence | RI | 02905
T-05-RI-1207 | Mobil Oil East Providence | 1001 Wampanoag Trail | East Providence | RI | 02915
T-06-RI-1208 | Inland Fuel Terminal Inc. | 25 State Ave. | Tiverton | RI | 02878
T-57-SC-2050 | TransMontaigne | Highway 20 North | Belton | SC | 29627
T-57-SC-2051 | TransMontaigne | Hwy 20 North | Belton | SC | 29627
T-57-SC-2052 | TransMontaigne | 680 Delmar Road | Spartansburg | SC | 29302
T-57-SC-2053 | MAPLLC | 14315 State Rt. 20 | Belton | SC | 29627
T-57-SC-2054 | Allied Terminal | 1500 Greenleaf St. | Charleston | SC | 29405
T-57-SC-2059 | Williams Energy | Sweet Water Road | North Augusta | SC | 29841
T-57-SC-2060 | Charter Terminal Co. | 221 Laurel Lake Drive | North Augusta | SC | 29841
T-57-SC-2061 | B P Oil | 221 Sweetwater Rd. | North Augusta | SC | 29841
T-57-SC-2062 | Phillips Pipeline | Highway 36 & Sweetwater | North Augusta | SC | 29841
T-57-SC-2063 | Southern Facilities | 1222 Sweetwater Road | North Augusta | SC | 29841
T-57-SC-2064 | Amerada Hess | 5150 Virginia Ave. | North Charleston | SC | 29406
T-57-SC-2066 | MAPLLC | 5165 Virginia Ave | Charleston | SC | 29406
T-57-SC-2067 | TransMontaigne | Old Union Road | Spartansburg | SC | 29304
T-57-SC-2068 | Williams Energy | Old Union Rd Route 4 | Spartansburg | SC | 29304
T-57-SC-2071 | Crown Central | 400 Delmar Rd | Spartansburg | SC | 29304
T-57-SC-2074 | Phillips Pipeline | 200 Nebo Street | Spartansburg | SC | 29302
T-57-SC-2075 | Motiva Enterprises LLC | 300 Delmar Road | Spartansburg | SC | 29302
T-57-SC-2076 | Southern Facility | 2430 Pine Street Ext | Spartansburg | SC | 29302
T-57-SC-2077 | CITGO Petroleum | 2590 Southport Road | Spartansburg | SC | 29302
T-46-SD-3550 | Kaneb Pipe Line Aberdeen | Hwy 281 | Aberdeen | SD | 57401
T-46-SD-3551 | Kaneb Pipe Line Mitchell | Hwy 38 | Mitchell | SD | 57301
T-46-SD-3552 | Kaneb PipeLine Rapid City | 3225 Eglin Street | Rapid City | SD | 57701
T-46-SD-3553 | Amoco Oil Sioux Falls | 3751 S Grange | Sioux Falls | SD | 57105
T-46-SD-3554 | Williams Pipeline Sioux Falls | 5300 west 12th Street | Sioux Falls | SD | 57107
T-46-SD-3555 | Williams Pipeline Watertown | 1000 17th Street S E | Watertown | SD | 57201
T-46-SD-3556 | Kaneb Pipe Line Wolsey | US Hwy 14 & 281 | Wolsey | SD | 57384
T-46-SD-3557 | Kaneb Pipe Line Yankton | Star Rte 50 | Yanton | SD | 57078
T-46-SD-3558 | Williams Pipe Line Canton | RR #1 Box 12 A | Canton | SD | 57013
T-62-TN-2200 | Amoco Oil Chattanooga | 4235 Jersey Pike | Chattanooga | TN | 37416
T-62-TN-2201 | Chevron USA Chattanooga | 4716 Bonny Oaks Drive | Chattanooga | TN | 37416
T-62-TN-2202 | CITGO Chattanooga | 4233 Jersey Pike | Chattanooga | TN | 37416
T-62-TN-2203 | Truman Arnold Memphis | 1237 Riverside | Memphis | TN | 38106
T-62-TN-2204 | Lion Oil Nashville | 90 Van Buren St | Nashville | TN | 37208
T-62-TN-2205 | MAPLLC Chattanooga | 817 Pineville Road | Chattanooga | TN | 37405
T-62-TN-2206 | Louis Dreyfus Chattanooga | 5800 St Elmo Avenue | Chattanooga | TN | 37409
T-62-TN-2207 | Benton Oil Service, Inc. | 4211 Cromwell Rd. | Chattanooga | TN | 37421
T-62-TN-2208 | Southern Facility Chattanooga | 4326 Jersey Pike | Chattanooga | TN | 37416
T-62-TN-2209 | Amoco—Chattanooga | 710 Manufacturers Road | Chattanooga | TN | 37405
T-62-TN-2211 | Amoco Oil Knoxville | 5101 Middlebrook Pike NW | Knoxville | TN | 37921
T-62-TN-2213 | CITGO Knoxville | 2409 Knott Road | Knoxville | TN | 37921
T-62-TN-2214 | Cummins Terminals Knoxville | 4715 Middlebrook Pike | Knoxville | TN | 37921
T-62-TN-2215 | Exxon USA Knoxville | 5009 Middlebrook Pike | Knoxville | TN | 37921
T-62-TN-2216 | B P Oil Knoxville | 1908 Third Creek Road | Knoxville | TN | 37921
T-62-TN-2217 | MAPLLC Oil Knoxville | 2601 Knott Road | Knoxville | TN | 37950
T-62-TN-2218 | Motiva Enterprises LLC | 5001 Middlebrook Pike NW | Knoxville | TN | 37921
T-62-TN-2219 | Southern Facility Knoxville | 4801 Middlebrook Pike | Knoxville | TN | 37921
T-62-TN-2221 | Louis Dreyfus Knoxville | 1720 Island Home Avenue | Knoxville | TN | 37920
T-62-TN-2225 | Exxon USA Memphis | 454 Wisconsin Avenue | Memphis | TN | 38106
T-62-TN-2226 | Lion Oil Memphis | 1023 Riverside | Memphis | TN | 38106
T-62-TN-2227 | MAPCO Petroleum Memphis |  | Memphis | TN | 38109
T-62-TN-2228 | Petroleum Fuel Memphis | 1232 Riverside | Memphis | TN | 38106
T-62-TN-2231 | Amoco Oil Nashville | 1441 51st Avenue North | Nashville | TN | 37209
T-62-TN-2232 | MAPLLC Nashville | Five Main Street | Nashville | TN | 37213
T-62-TN-2233 | CITGO Nashville | 720 South Second Street | Nashville | TN | 37213
T-62-TN-2234 | Cumberland Terminals Nashville | 7260 Centennial Boulevard | Nashville | TN | 37209
T-62-TN-2236 | Exxon USA Nashville | 1741 Ed Temple Blvd | Nashville | TN | 37208
T-62-TN-2237 | B P Oil Nashville | 1409 51st Ave | Nashville | TN | 37209
T-62-TN-2238 | MAPLLC Nashville | 2920 Old Hydes Ferry Road | Nashville | TN | 37218
T-62-TN-2240 | Williams Energy Ventures-Nashv | 1609 63rd Avenue North | Nashvilleue North | TN | 37209
T-62-TN-2241 | Motiva Enterprises LLC | 1717 61st & Centennial Bvld. | Nashville | TN | 37209
T-62-TN-2242 | Kerr-McGee Nashville | 180 Anthes Avenue | Nashville | TN | 37210
T-62-TN-2243 | Cummins Terminal-Knoxville | 5100 Middlebrook Pike | Knoxville | TN | 37921
T-74-TX-2658 | Mobil Oil Hearne | Highway 6 South | Hearne | TX | 76705
T-74-TX-2700 | Coastal Oil—Edinburg | 222 W. Ingle Rd. | Edinburg | TX | 78359
T-74-TX-2702 | Motiva Enterprises LLC | Highway 6 South | Hearne | TX | 77859
T-74-TX-2703 | CITGO Victoria | 1708 North Ben Jordan Blvd | Victoria | TX | 77901
T-74-TX-2705 | Motiva Enterprises LLC Waco | 420 South Lacy drive | Waco | TX | 76705
T-74-TX-2706 | Koch Petroleum Group-Austin | 9011 Johnny Morris Rd | Austin | TX | 78724
T-74-TX-2707 | Koch Petroleum Group-Waco | 2017 Kendall Lane | Waco | TX | 76705
T-74-TX-2709 | CITGO—Brownsville | 11001 R.L. Ostos Rd. | Brownsville | TX | 78521
T-74-TX-2710 | Equilon Enterprises LLC | 6767 Gateway West | El Paso | TX | 79926
T-74-TX-2711 | CITGO Oil Corpus Christi | 2505 N Port Ave | Corpus Christi | TX | 78401
T-74-TX-2712 | Age Refining, Inc. | 7811 S. Presa | San Antonio | TX | 78223
T-74-TX-2713 | CITGO Bryan | 1714 Finfeather Road | Bryan | TX | 77801
T-74-TX-2715 | Diamond Laredo | 13380 S Unitec | Laredo | TX | 78044
T-74-TX-2716 | CITGO—Corpus Christi | 1308 Oak Park Street | Corpus Christi | TX | 78407
T-74-TX-2718 | Coastal Oil Corpus Christi | 1300 Cantwell | Corpus Christi | TX | 78407
T-74-TX-2719 | Diamond—Corpus Christi | 2700 Texaco Road | Corpus Christi | TX | 78403
T-74-TX-2721 | Koch Petroleum Group-Corpus Christi | 2825 Suntide Road | Corpus Christi | TX | 78403
T-74-TX-2724 | Chevron USA El Paso | 6501 Trowbridge | El Paso | TX | 79905
T-74-TX-2726 | Navajo Refining El Paso | 1000 Eastside Road | El Paso | TX | 79915
T-74-TX-2729 | Diamond Harlingen | 4.5 miles east on highway 106 | Harlingen | TX | 78550
T-74-TX-2731 | Coastal Oil—Placedo | 2 Mi S of Placedo Hwy 87 | Placedo | TX | 77977
T-74-TX-2733 | Fina Oil Port Arthur Hwy 366 | Highway 366 and 32nd Street | Port Arthur | TX | 77640
T-74-TX-2737 | CITGO—San Antonio | 4851 Emil Road | San Antonio | TX | 78219
T-74-TX-2738 | Coastal Oil San Antonio | 4719 Corner Parkway #2 | San Antonio | TX | 78219
T-74-TX-2739 | Diamond San Antonio | 10619 Highway 281 South | San Antonio | TX | 78221
T-74-TX-2740 | Exxon USA San Antonio | 3214 North Pan Am Expressway | San Antonio | TX | 78219
T-74-TX-2742 | Koch Petroleum Group-San Antonio | 498 and Pop Gun | San Antonio | TX | 78219
T-74-TX-2745 | Motiva Enterprises LLC | 510 Petroleum Drive | San Antonio | TX | 78219
T-74-TX-2747 | Diamond Three Rivers | 301 Leroy Street | Three Rivers | TX | 78071
T-74-TX-2748 | Fina Oil and Chemical Co. | I-20 West Exit 278 | Tye | TX | 79563
T-74-TX-2749 | CITGO Waco | 1600 South Loop Dr | Waco | TX | 76705
T-74-TX-2750 | Ultramar—Diamond Shamrock | 4200 J.C. Vera Montes | El Paso | TX | 79936
T-75-TX-2650 | Diamond Abernathy | Highway 54 | Abernathy | TX | 79311
T-75-TX-2651 | Fina Oil Abilene | Highway 277 North | Abilene | TX | 79604
T-75-TX-2652 | Pride Abilene | Hwy 277 N Industrial District | Abilene | TX | 79604
T-75-TX-2653 | Diamond Amarillo | 4200 West Cliffside | Amarillo | TX | 79124
T-75-TX-2654 | Phillips 66 Amarillo | 4300 Cliffside Dr | Amarillo | TX | 79142
T-75-TX-2655 | Phillips Pipeline Company | 12401 Calloway Cemetery Road | Euless | TX | 76040
T-75-TX-2656 | Fina Oil Big Spring | East IS-20 & Refinery Rd | Big Springs | TX | 79721
T-75-TX-2657 | Phillips 66 Borger | Spur 119 N | Borger | TX | 79007
T-75-TX-2659 | Truman Arnold Caddo Mills |  | Caddo Mills | TX | 75505
T-75-TX-2660 | Exxon USA Dallas | 1201 East Airport Freeway | Irving | TX | 75062
T-75-TX-2661 | Williams Energy | 4200 Singleton Boulevard | Dallas | TX | 75212
T-75-TX-2662 | Motiva Enterprises LLC | 3900 Singleton Blvd. | Dallas | TX | 75212
T-75-TX-2663 | Ogden Aviation Co. of TX Love Field | 2734 Brookfield | Dallas | TX | 75235
T-75-TX-2664 | Koch Petroleum Group-Fort Worth | Highway 157 and Trinity Blvd | Euless | TX | 76040
T-75-TX-2665 | Pride Aledo | 6000 IH20 | Aledo | TX | 76008
T-75-TX-2666 | Chevron USA Fort Worth | 2525 Brennan Street | Fort Worth | TX | 76106
T-75-TX-2667 | CITGO Fort Worth | 301 Terminal Road | Fort Worth | TX | 76106
T-75-TX-2668 | Mobil Oil Fort Worth | 3600 North Sylvania | Fort Worth | TX | 76111
T-75-TX-2669 | Motiva Enterprises LLC | 3200 N. Sylvania | Fort Worth | TX | 76111
T-75-TX-2671 | Conoco Southlake | 3100 Highway 26 West | Grapevine | TX | 76051
T-75-TX-2672 | Fina Oil Southlake | 3000 Highway 26 West | Grapevine | TX | 76051
T-75-TX-2673 | Ogden Aviation Services of TX DFW | 2001 W. Airfield Dr. | DFW Airport | TX | 75261
T-75-TX-2674 | Phillips 66 Lubbock | Clovis Road and Flint Avenue | Lubbock | TX | 79408
T-75-TX-2676 | Conoco Mount Pleasant | 1503 West Ferguson | Mount Pleasant | TX | 75455
T-75-TX-2678 | Mobil—Center | Hwy 87 South | Center | TX | 75935
T-75-TX-2680 | Diamond Southlake | 1700 Hwy 26 | Grapevine | TX | 76051
T-75-TX-2681 | La Gloria Oil Tyler | 425 McMurry Drive | Tyler | TX | 75702
T-75-TX-2682 | Diamond Sunray | 9 Mi NE of Dumas TX on FM 119 | Sunray | TX | 79086
T-75-TX-2683 | Fina Oil Wichita Falls | Old Charlie & Sinclair Blvd | Wichita Falls | TX | 76307
T-75-TX-2684 | Conoco—Wichita Falls | 1214 North Eastside | Wichita Falls | TX | 76304
T-75-TX-2685 | Equilon Enterprises LLC—Odessa | 2700 S. Grandview | Odessa | TX | 79760
T-75-TX-2686 | Pride San Angelo | 4008 U S Hwy 67N | San Angelo | TX | 76905
T-75-TX-2687 | Motiva Enterprises LLC | Farm Road 9 | Waskom | TX | 75692
T-75-TX-2688 | Mobil Oil Waskom | 9 South | Waskom | TX | 75692
T-75-TX-2690 | DFLP Terminal | 12625 Calloway Cemetary Rd | Euless | TX | 76040
T-76-TX-2780 | Petro-United Terminals Bayport | 11666 Port Road | Seabrook | TX | 77586
T-76-TX-2782 | Motiva Enterprises LLC | 1320 West Shaw St. | Pasadena | TX | 77501
T-76-TX-2783 | Motiva Enterprises LLC | 9406 West Port Arthur Rd | Beaumont | TX | 77705
T-76-TX-2784 | Chevron USA Product Co. Big Sandy | Highway 155 and Sabine River | Big Sandy | TX | 75755
T-76-TX-2785 | Motiva Enterprises LLC | 401 West 19th Street | Port Arthur | TX | 77640
T-76-TX-2787 | UNOCAL Beaumont | Hwy 366 | Nederland | TX | 77627
T-76-TX-2788 | GATX Galena Park | 906 Clinton Drive | Galena Park | TX | 77547
T-76-TX-2789 | Chevron USA Galena Park | 12523 American Petroleum Rd | Galena Park | TX | 77547
T-76-TX-2791 | Specified Fuels and Chemicals LLC | 1201 S Sheldon Rd | Channelview | TX | 77530
T-76-TX-2792 | Amerada Hess—Galena Park | 12901 American Petroleum Rd | Galena Park | TX | 77547
T-76-TX-2793 | Coastal Refining & Marketing | 8376 Monroe | Houston | TX | 77061
T-76-TX-2794 | CITGO Houston | 12325 North Fwy at Greens Rd | Houston | TX | 77060
T-76-TX-2795 | Coastal Oil Houston | 11650 Almeda Road Loop 610 | Houston | TX | 77045
T-76-TX-2796 | Intercoastal Terminal, Inc. | 159 Levee Rd. | Texas City | TX | 77590
T-76-TX-2797 | J A M Distributing Co. | 7010 Myrawa | Houston | TX | 77033
T-76-TX-2798 | Mobil Oil Beaumont | Route 4 | Beaumont | TX | 77705
T-76-TX-2799 | Jetera Fuels Houston | 17617 Aldine-Westfield Road | Houston | TX | 77073
T-76-TX-2800 | Lyondell-CITGO Refining | 12000 Lawndale | Houston | TX | 77002
T-76-TX-2801 | Fina Oil Port Arthur 32nd | Hwy 366 & 32nd St | Port Arthur | TX | 77642
T-76-TX-2802 | Oil Tanking Houston, Inc. | 15602 Jacinto Port Blvd. | Houston | TX | 77015
T-76-TX-2803 | Motiva Enterprises LLC | 2661 Stevens Street | Houston | TX | 77226
T-76-TX-2805 | Petroleum Wholesale, Inc. | 1801 Collingsworth | Houston | TX | 77099
T-76-TX-2806 | Valero Refining Co.—Texas (Houston) | 9701 Manchester | Houston | TX | 77262
T-76-TX-2808 | Exxon USA North Houston | 8700 North Freeway | Houston | TX | 77037
T-76-TX-2809 | GATX Pasadena | 530 North Witter | Pasadena | TX | 77506
T-76-TX-2811 | Phillips Pipeline Pasadena | 100 Jefferson Street | Pasadena | TX | 77501
T-76-TX-2812 | Exxon USA South Houston | 10501 East Almeda | Houston | TX | 77051
T-76-TX-2813 | Phillips 66 Sweeny | Hwys 35 & 36 at West Columbia | Sweeny | TX | 77480
T-76-TX-2814 | S T Services Texas City | 201 Dock Road | Texas City | TX | 77590
T-76-TX-2815 | Intercontinental Terminals Co. | 1943 Battleground Rd. | Deer Park | TX | 77536
T-87-UT-4200 | Flying J North Salt Lake | 333 West Center St | North Salt Lake | UT | 84054
T-87-UT-4202 | Amoco Oil Salt Lake City | 474 West 900 N | Salt Lake City | UT | 84103
T-87-UT-4203 | Chevron USA Salt Lake City | 2351 North Tenth West | Salt Lake City | UT | 84110
T-87-UT-4204 | Conoco Pipeline Co. | 245 East 1100 North | North Salt Lake City | UT | 84054
T-87-UT-4205 | Crysen Refining Woods Cross | 2355 South 1100 West | Woods Cross | UT | 84087
T-87-UT-4206 | Phillips 66 Woods Cross | 393 South 800 West | Woods Cross | UT | 84087
T-54-VA-1650 | Amerada Hess Corporation | 4030 Buell Street | Chesapeake | VA | 23324
T-54-VA-1651 | Center Point Terminal Co. | 428 Barnes Road | Chesapeake | VA | 23324
T-54-VA-1652 | CITGO Petroleum Corporation | 110 Freeman Street | Chesapeake | VA | 23324
T-54-VA-1653 | Allied Terminals, Inc. | 502 Hill Street | Chesapeake | VA | 23324
T-54-VA-1654 | Exxon USA | 4115 Buell Street | Chesapeake | VA | 23324
T-54-VA-1656 | TransMontaigne Terminaling, Inc. | 7600 Halifax Lane | Chesapeake | VA | 23324
T-54-VA-1657 | Kinder Morgan Operating LP A | 3302 Deepwater Terminal Rd | Richmond | VA | 23234
T-54-VA-1658 | S T Services Dumfries | 18000 Cockpit Point Road | Dumfries | VA | 22026
T-54-VA-1659 | Amoco Oil Fairfax | 9601 Colonial Avenue | Fairfax | VA | 22031
T-54-VA-1660 | Global Petro | 3790 Pickett Road | Fairfax | VA | 22031
T-54-VA-1661 | CITGO Fairfax | 9600 Colonial Avenue | Fairfax | VA | 22031
T-54-VA-1662 | Motiva Enterprises LLC | 3800 Pickett Road | Fairfax | VA | 22030
T-54-VA-1663 | Mobil Oil Manassas | 10315 Ballsford Road | Manassas | VA | 23109
T-54-VA-1664 | TransMontaigne Terminaling, Inc. | Route 460 | Montvale | VA | 24122
T-54-VA-1665 | Amoco Petroleum—Montvale | 1070 Oil Terminal Rd | Montvale | VA | 24122
T-54-VA-1666 | Chevron Products Co—Montvale | 1147 Oil Terminal Rd | Montvale | VA | 24122
T-54-VA-1667 | IMTT-Chesapeake | 2801 S. Military Hwy. | Chesapeake | VA | 23323
T-54-VA-1668 | Williams Energy Ventures, Inc. | U S Highway 460, PO Box 113 | Montvale | VA | 24122
T-54-VA-1669 | Koch Petroleum Group-Newport News | 801 Terminal Ave | Newport News | VA | 23607
T-54-VA-1670 | Crown Central Newington | 8211 Terminal Road | Newington | VA | 22122
T-54-VA-1671 | Exxon USA Newington | 8200 Terminal Road | Newington | VA | 22122
T-54-VA-1672 | Kinder Morgan Operating LP A | 413 Bickerstaff Rd | Richmond | VA | 23231
T-54-VA-1673 | Crown Central Petroleum Corp. | 801 Butt Street | Chesapeake | VA | 23324
T-54-VA-1674 | Mobil Oil Norfolk | Halifax Lane | Chesapeake | VA | 23324
T-54-VA-1675 | Quarles Energy Services | 8219 Terminal Rd. | Newington | VA | 22122
T-54-VA-1676 | BP Air-Wash. Dulles Bulk Fuel Storage | Rt. 28, Gate 4 | Dulles | VA | 20166
T-54-VA-1677 | BP-Amoco Oil Richmond | 1636 Commerce Road | Richmond | VA | 23224
T-54-VA-1678 | Chevron USA Richmond | 700 Goodes Street | Richmond | VA | 23224
T-54-VA-1679 | CITGO Richmond | Third & Maury Street | Richmond | VA | 23224
T-54-VA-1680 | Crown Central Richmond | 4405 E Main | Richmond | VA | 23231
T-54-VA-1681 | Exxon-Mobile USA Richmond | 2000 Trenton Avenue | Richmond | VA | 23234
T-54-VA-1682 | First Energy Corporation | Second & Maury Streets | Richmond | VA | 23224
T-54-VA-1683 | Koch Petroleum Group-Richmond | 4110 Deepwater Terminal Road | Richmond | VA | 23234
T-54-VA-1684 | Williams Energy Ventures-Richm | 204 East First Avenue | Richmond | VA | 23224
T-54-VA-1685 | Motiva Enterprises LLC | 5801 Petersburg Pike | Richmond | VA | 23234
T-54-VA-1687 | TransMontaigne Terminaling, Inc. | 1314 Commerce Road | Richmond | VA | 23224
T-54-VA-1688 | Exxon USA Roanoke | 835 Hollins Road Northeast | Roanoke | VA | 24012
T-54-VA-1689 | MAPLLC Oil Roanoke | 5287 Terminal Road | Roanoke | VA | 24014
T-54-VA-1690 | Motiva Enterprises LLC | 5280 Terminal Road SW | Roanoke | VA | 24014
T-54-VA-1691 | Motiva Enterprises LLC | U.S. Highway 460 | Montvale | VA | 24122
T-54-VA-1692 | Motiva Enterprises LLC | 8206 Terminal Road | Lorton | VA | 22079
T-54-VA-1693 | S T Services Virginia Beach | 3925 North Landing Road | Virginia Beach | VA | 23456
T-54-VA-1694 | Amoco Oil Yorktown | Route 73 East Entrance | Yorktown | VA | 23690
T-54-VA-1696 | IMTT- Richmond, VA | 5501 Old Osborne Turnpike | Richmond | VA | 23231
T-91-WA-4400 | Equilon Enterprises LLC | Marches Point Five Miles | Anacortes | WA | 98221
T-91-WA-4401 | Conoco Pipeline Co. | 3 miles north of Moses Lake | Moses Lake | WA | 98837
T-91-WA-4402 | Northwest Terminaling Pasco | 3000 Sacajawea Park Road | Pasco | WA | 99301
T-91-WA-4404 | Tosco Northwest Renton | 2423 Lind Avenue Southwest | Renton | WA | 98055
T-91-WA-4406 | GATX Seattle | 1733 Alaskan Way South | Seattle | WA | 98134
T-91-WA-4408 | Equilon Enterprises LLC | 2555 13th Ave. S W | Seattle | WA | 98134
T-91-WA-4409 | Time Oil Seattle | 2737 West Commodore Way | Seattle | WA | 98199
T-91-WA-4410 | Conoco Pipeline Co. | 6317 East Sharp Avenue | Spokane | WA | 99206
T-91-WA-4411 | Exxon USA Spokane | 6311 East Sharp Avenue | Spokane | WA | 99211
T-91-WA-4412 | Tosco Northwest Spokane | 3225 East Lincoln Road | Spokane | WA | 99207
T-91-WA-4413 | Tosco Northwest Tacoma | 520 E D Street | Tacoma | WA | 98421
T-91-WA-4414 | Sound Refining Tacoma | 2628 Marine View Drive | Tacoma | WA | 98421
T-91-WA-4415 | Shore Terminals LLC | 250 East D Street | Tacoma | WA | 98401
T-91-WA-4416 | Equilon Enterprises LLC | 7370 Linderson Way SW | Tumwater | WA | 98501
T-91-WA-4417 | CENEX Vancouver | 5420 Fruit Valley Road | Vancouver | WA | 98660
T-91-WA-4418 | ARCO Cherry Point Terminal | 4519 Grandview | Blaine | WA | 98231
T-91-WA-4419 | Tesoro Alaska Petro Vancouver | 2211 West 26th Street Ext | Vancouver | WA | 98660
T-91-WA-4420 | Tidewater Snake River | Tank Farm Road | Pasco | WA | 99301
T-91-WA-4421 | US Oil & Refining Co. | 3001 Marshall Ave | Tacoma | WA | 98421
T-91-WA-4422 | Tosco Tacoma | 516 East D Street | Tacoma | WA | 98421
T-91-WA-4423 | Tidewater Terminal Wilma | 2950 Wilma Drive | North Clarkston | WA | 99403
T-91-WA-4424 | Pacific Northern Oil Corp | Pier 91 Bldg 19 | Seattle | WA | 98119
T-91-WA-4425 | ARCO Seattle Terminal | 1652 SW Lander St | Seattle | WA | 95124
T-91-WA-4427 | Tosco Northwest Co.—Ferndale | 3901 Unic Rd. | Ferndale | WA | 98248
T-39-WI-3061 | Amoco Oil Green Bay | 1124 North Broadway | Green Bay | WI | 54303
T-39-WI-3062 | Amoco Oil Milwaukee | 9101 North 107th Street | Milwaukee | WI | 53224
T-39-WI-3063 | Amoco Oil Superior | 2904 Winter Street | Superior | WI | 54880
T-39-WI-3064 | CENEX Chippewa Falls | 2331 N Prairie View Rd | Chippewa Falls | WI | 54729
T-39-WI-3065 | CENEX McFarland | 4103 Triangle St | McFarland | WI | 53558
T-39-WI-3066 | CITGO Green Bay | 1391 Bylsby Avenue | Green Bay | WI | 54303
T-39-WI-3067 | CITGO McFarland | 4606 Terminal Drive | McFarland | WI | 53558
T-39-WI-3068 | CITGO Milwaukee | 9235 North 107th Street | Milwaukee | WI | 53224
T-39-WI-3069 | Terminal Oil Group Ltd | 3910 Terminal Road | Madison | WI | 53704
T-39-WI-3070 | Halron Oil Company Inc | 2020 N Quincy St | Green Bay | WI | 54306
T-39-WI-3071 | Koch Petroleum Group-Junction City | Junction US 10 & 34N | Junction City | WI | 54443
T-39-WI-3072 | Koch Petroleum Group-Madison | 4505 Terminal Drive | McFarland | WI | 53558
T-39-WI-3073 | Koch Petroleum Group-Milwaukee | 9343 North 107th Street | Milwaukee | WI | 53224
T-39-WI-3074 | Koch Petroleum Group-Waupun | Route Two | Waupun | WI | 53963
T-39-WI-3075 | Green Bay Terminal | 1031 Hurlbut Street | Green Bay | WI | 54303
T-39-WI-3076 | MAPLLC Milwaukee | 9125 North 107th St | Milwaukee | WI | 53224
T-39-WI-3077 | Mobil Oil Green Bay | 410 Prairie Ave | Green Bay | WI | 54303
T-39-WI-3078 | Equilon Enterprises LLC | 1445 Bylsby Ave | Green Bay | WI | 54303
T-39-WI-3079 | Mobil Oil Madison | 4516 Sigglekow Road | McFarland | WI | 53558
T-39-WI-3080 | Murphy Oil Superior | 2407 Stinson Ave | Superior | WI | 54880
T-39-WI-3081 | S T Services Milwaukee | 1626 South Harbor Drive | Milwaukee | WI | 53207
T-39-WI-3082 | Transmontaigne—Chippewa Fall | 2553 North Prairie View Rd | Chippewa Falls | WI | 54729
T-39-WI-3083 | Center Terminal Co—Madison | 4009 Triangle St Hwy 51 S | McFarland | WI | 53558
T-39-WI-3084 | US Oil Milwaukee | 9135 North 107th Street | Milwaukee | WI | 53224
T-39-WI-3086 | U.S. Oil Milwaukee-North | 9521 North 107th Street | Milwaukee | WI | 53224
T-39-WI-3087 | Williams Pipe Line Mosinee | 2007 Old Highway 51 | Mosinee | WI | 54455
T-39-WI-3088 | US Oil Madison | 4402 Terminal Dr | Madison | WI | 53558
T-39-WI-3089 | U S Oil Green Bay West | 1075 Hurlbut Ct | Green Bay | WI | 54303
T-39-WI-3090 | Equilon Enterprises LLC | 9451 North 107th Street | Milwaukee | WI | 53224
T-39-WI-3091 | U S Oil Green Bay East | 1910 N Quincy St | Green Bay | WI | 54302
T-54-WV-1697 | MAPLLC Petro TriState-Kenova | 237 23rd Street | Kenova | WV | 25530
T-55-WV-3181 | Exxon USA Charleston | Standard St & MacCorkle Ave | Charleston | WV | 25314
T-55-WV-3182 | Pennzoil Products Charleston | 1015 Barlow Dr | Charleston | WV | 25333
T-55-WV-3183 | Ergon West Virginia Inc. | Rt 2 South | Newell | WV | 26050
T-55-WV-3184 | Go-Mart St Albans | Oliver & Terminal Rd | St Albans | WV | 25177
T-55-WV-3185 | St Marys Refining | 201 Barkwill St | St Mary's | WV | 26170
T-55-WV-3186 | Guttman Oil Star City | 437 Industrial Ave | Star City | WV | 26505
T-55-WV-3188 | Baker Oil Co | US 60 Hughes Creek Rd | Hugheston | WV | 25110
T-83-WY-4050 | Conoco Sheridan | 3404 Highway 87 | Sheridan | WY | 82801
T-83-WY-4051 | Conoco Rock Springs | 90 Foot Hill Blvd | Rock Springs | WY | 82902
T-83-WY-4052 | Little America Refining Casper | 5100 E Hwy 20-26 | Evansville | WY | 82636
T-83-WY-4053 | Kaneb Pipe Line Co—Cheyenne | 1112 Parsley Blvd | Cheyenne | WY | 82007
T-83-WY-4054 | Sinclair Oil | East Lincoln Highway | Sinclair | WY | 82334
T-83-WY-4055 | Frontier Refining Cheyenne | 2700 East Fifth Street | Cheyenne | WY | 82007
T-83-WY-4056 | Wyoming Refining Newcastle | 740 W Main | Newcastle | WY | 82701
T-84-WY-4057 | Hawk Point Terminal | 9397 Highway 59 South | Gillette | WY | 82717
T-84-WY-4058 | Silver Eagle Refining | 2990 County Rd. #180 | Evanston | WY | 82930

[FR Doc. 00-19366 Filed 7-31-00; 8:45 am]

BILLING CODE 4830-01-P ]